DEPARTMENT OF HOUSING AND URBAN DEVELOPMENT

[Docket No. FR-5280-N-33]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Department of Housing and Urban Development, 451 Seventh Street, SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and 60 other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Rita, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., Suite 1, San Antonio, TX 78226; (210) 925-3047; Coast Guard: Commandant, United States Coast Guard, Attn: Jennifer Stomber, 2100 Second St., SW., Stop 7901, Washington, DC 20314; (202) 475-5609; COE: Ms. Kim Shelton, Army Corps of Engineers, Office of Counsel, CECC-R, 441 G Street, NW., Washington, DC 20314; (202) 761-7696; Energy: Mr. Mark Price, Department of Energy, Office of Engineering & Construction Management, MA-50, 1000 Independence Ave., SW., Washington, DC 20585: (202) 586-5422; Interior: Mr. Michael Wright, Acquisition & Property Management, Department of the Interior, 1849 C Street, NW., MS2603, Washington, DC 20240; (202) 208-5399; Navy: Mrs. Mary Arndt, Acting Director, Department of the Navy, Real Estate Services, Naval Facilities Engineering Command, Washington Navy Yard, 1322 Patterson Ave., SE., Suite 1000, Washington, DC 20374-5065; (202) 685-9305; (These are not toll-free numbers).

Dated: August 20, 2009.
Mark R. Johnston,
Deputy Assistant Secretary for Special Needs.

TITLE V, FEDERAL SURPLUS PROPERTY PROGRAM FEDERAL REGISTER REPORT FOR 08/28/2009

Suitable/Available Properties

Building

California

Facility 1

OTHB Radar Site

Tulelake CA 91634

Landholding Agency: Air Force

Property Number: 18200830012

Status: Unutilized

Comments: 7920 sq. ft., most recent use—communications

Facility 2

OTHB Radar Site

Tulelake CA 91634

Landholding Agency: Air Force

Property Number: 18200830014

Status: Unutilized

Comments: 900 sq. ft., most recent use—veh maint shop

Facilities 3, 4

OTHB Radar Site

Tulelake CA 91634

Landholding Agency: Air Force

Property Number: 18200830015

Status: Unutilized

Comments: 4160 sq. ft. each, most recent use—communications

Facility 1

OTHB Radar Site

Christmas Valley CA 97641

Landholding Agency: Air Force

Property Number: 18200830016

Status: Unutilized

Comments: 16566 sq. ft., most recent use—communications

Facility 2

OTHB Radar Site

Christmas Valley CA 97641

Landholding Agency: Air Force

Property Number: 18200830017

Status: Unutilized

Comments: 900 sq. ft., most recent use—veh maint shop

Facility 4

OTHB Radar Site

Christmas Valley CA 97641

Landholding Agency: Air Force

Property Number: 18200830018

Status: Unutilized

Comments: 14,190 sq. ft., most recent use—communications

Facility 6

OTHB Radar Site

Christmas Valley CA 97641

Landholding Agency: Air Force

Property Number: 18200830019

Status: Unutilized

Comments: 14,190 sq. ft., most recent use—transmitter bldg.

Hawaii

Bldg. 849

Bellows AFS

Bellows AFS HI

Landholding Agency: Air Force

Property Number: 18200330008

Status: Unutilized

Comments: 462 sq. ft., concrete storage facility, off-site use only

Maine

Bldgs. 1, 2, 3, 4

OTH-B Radar Site

Columbia Falls ME

Landholding Agency: Air Force

Property Number: 18200840009

Status: Unutilized

Comments: various sq. ft., most recent use—storage/office

New York

Bldg. 240

Rome Lab

Rome Co: Oneida NY 13441

Landholding Agency: Air Force

Property Number: 18200340023

Status: Unutilized

Comments: 39108 sq. ft., presence of asbestos, most recent use—Electronic Research Lab

Bldg. 247

Rome Lab

Rome Co: Oneida NY 13441

Landholding Agency: Air Force

Property Number: 18200340024

Status: Unutilized

Comments: 13199 sq. ft., presence of asbestos, most recent use—Electronic Research Lab

Bldg. 248

Rome Lab

Rome Co: Oneida NY 13441

Landholding Agency: Air Force

Property Number: 18200340025

Status: Unutilized

Comments: 4000 sq. ft., presence of asbestos, most recent use—Electronic Research Lab

Bldg. 302

Rome Lab

Rome Co: Oneida NY 13441

Landholding Agency: Air Force

Property Number: 18200340026

Status: Unutilized

Comments: 10288 sq. ft., presence of asbestos, most recent use—communications facility

South Carolina

256 Housing Units

Charleston AFB

South Side Housing

Charleston SC

Landholding Agency: Air Force

Property Number: 18200920001

Status: Excess

Comments: various sq. ft., presence of asbestos/lead paint, off-site use only

Land

California

Parcels L1 & L2

George AFB

Victorville CA 92394

Landholding Agency: Air Force

Property Number: 18200820034

Status: Excess

Comments: 157 acres/desert, pump-and-treat system, groundwater restrictions, AF access rights, access restrictions, environmental concerns

Missouri

Communications Site

County Road 424

Dexter Co: Stoddard MO

Landholding Agency: Air Force

Property Number: 18200710001

Status: Unutilized

Comments: 10.63 acres

North Carolina

0.14 acres

Pope AFB

Pope AFB NC

Landholding Agency: Air Force

Property Number: 18200810001

Status: Excess

Comments: most recent use—middle marker, easement for entry

Texas

0.13 acres

DYAB, Dyess AFB

Tye Co: Taylor TX 79563

Landholding Agency: Air Force

Property Number: 18200810002

Status: Unutilized

Comments: most recent use—middle marker, access limitation

Washington

6798 sq. ft. land

Navy Region Northwest

Bremerton WA

Landholding Agency: Navy

Property Number: 77200830024

Status: Unutilized

Comments: vacant land

Suitable/Unavailable Properties

Building

Hawaii

Bldg. 2652

Navy Aloha Center

Pearl Harbor HI 96860

Landholding Agency: Navy

Property Number: 77200710039

Status: Underutilized

Comments: 9125 sq. ft., most recent use—office

Washington

Bldg. 404/Geiger Heights

Fairchild AFB

Spokane WA 99224

Landholding Agency: Air Force

Property Number: 18200420002

Status: Unutilized

Comments: 1996 sq. ft., possible asbestos/lead paint, most recent use—residential

11 Bldgs./Geiger Heights

Fairchild AFB

Spokane WA 99224

Landholding Agency: Air Force

Property Number: 18200420003

Status: Unutilized

Comments: 2134 sq. ft., possible asbestos/lead paint, most recent use—residential

Bldg. 297/Geiger Heights

Fairchild AFB

Spokane WA 99224

Landholding Agency: Air Force

Property Number: 18200420004

Status: Unutilized

Comments: 1425 sq. ft., possible asbestos/lead paint, most recent use—residential

9 Bldgs./Geiger Heights

Fairchild AFB

Spokane WA 99224

Landholding Agency: Air Force

Property Number: 18200420005

Status: Unutilized

Comments: 1620 sq. ft., possible asbestos/lead paint, most recent use—residential

22 Bldgs./Geiger Heights

Fairchild AFB

Spokane WA 99224

Landholding Agency: Air Force

Property Number: 18200420006

Status: Unutilized

Comments: 2850 sq. ft., possible asbestos/lead paint, most recent use—residential

51 Bldgs./Geiger Heights

Fairchild AFB

Spokane WA 99224

Landholding Agency: Air Force

Property Number: 18200420007

Status: Unutilized

Comments: 2574 sq. ft., possible asbestos/lead paint, most recent use—residential

Bldg. 402/Geiger Heights

Fairchild AFB

Spokane WA 99224

Landholding Agency: Air Force

Property Number: 18200420008

Status: Unutilized

Comments: 2451 sq. ft., possible asbestos/lead paint, most recent use—residential

5 Bldgs./Geiger Heights

Fairchild AFB

222, 224, 271, 295, 260

Spokane WA 99224

Landholding Agency: Air Force

Property Number: 18200420009

Status: Unutilized

Comments: 3043 sq. ft., possible asbestos/lead paint, most recent use—residential

5 Bldgs./Geiger Heights

Fairchild AFB

102, 183, 118, 136, 113

Spokane WA 99224

Landholding Agency: Air Force

Property Number: 18200420010

Status: Unutilized

Comments: 2599 sq. ft., possible asbestos/lead paint, most recent use—residential

Land

Hawaii

6 Parcels

Naval Station

Pearl Harbor HI 96818

Landholding Agency: Navy

Property Number: 77200840012

Status: Unutilized

Comments: various acres; encumbered by substantial improvements owned by a private navy tenant

South Dakota

Tract 133

Ellsworth AFB

Box Elder Co: Pennington SD 57706

Landholding Agency: Air Force

Property Number: 18200310004

Status: Unutilized

Comments: 53.23 acres

Tract 67

Ellsworth AFB

Box Elder Co: Pennington SD 57706

Landholding Agency: Air Force

Property Number: 18200310005

Status: Unutilized

Comments: 121 acres, bentonite layer in soil, causes movement

Unsuitable Properties

Building

Alaska

Bldg. 9485

Elmendorf AFB

Elmendorf AK

Landholding Agency: Air Force

Property Number: 18200730001

Status: Unutilized

Reasons: Secured Area

Bldg. 70500

Seward AFB

Seward AK 99664

Landholding Agency: Air Force

Property Number: 18200820001

Status: Unutilized

Reasons: Secured Area

Bldg. 3224

Eielson AFB

Eielson AK 99702

Landholding Agency: Air Force

Property Number: 18200820002

Status: Unutilized

Reasons: Secured Area, Extensive deterioration

Bldgs. 1437, 1190, 2375

Eielson AFB

Eielson AK

Landholding Agency: Air Force

Property Number: 18200830001

Status: Unutilized

Reasons: Secured Area, Extensive deterioration

5 Bldgs.

Eielson AFB

Eielson AK

Landholding Agency: Air Force

Property Number: 18200830002

Status: Unutilized

Directions: 3300, 3301, 3315, 3347, 3383

Reasons: Extensive deterioration, Secured Area

4 Bldgs.

Eielson AFB

Eielson AK

Landholding Agency: Air Force

Property Number: 18200830003

Status: Unutilized

Directions: 4040, 4332, 4333, 4480

Reasons: Secured Area, Extensive deterioration

Bldgs. 6122, 6205

Eielson AFB

Eielson AK

Landholding Agency: Air Force

Property Number: 18200830004

Status: Unutilized

Reasons: Secured Area, Extensive deterioration

Bldg. 8128

Elmendorf AFB

Elmendorf AK 99506

Landholding Agency: Air Force

Property Number: 18200830005

Status: Underutilized

Reasons: Secured Area

Bldgs. 8130, 8132, 17637

Elmendorf AFB

Anchorage AK 99506

Landholding Agency: Air Force

Property Number: 18200920002

Status: Unutilized

Reasons: Secured Area, Extensive deterioration

Bldg. 7111

Elmendorf AFB

Anchorage AK

Landholding Agency: Air Force

Property Number: 18200920014

Status: Unutilized

Reasons: Secured Area

Bldgs. 615, 617, 751, 753

Eareckson Air Station

Shemya Island AK

Landholding Agency: Air Force

Property Number: 18200920015

Status: Unutilized

Reasons: Within 2000 ft. of flammable or explosive material, Within airport runway clear zone, Secured Area, Extensive deterioration

Radar Tower

Potato Point Comm Site

Valdez AK

Landholding Agency: Coast Guard

Property Number: 88200710001

Status: Excess

Reasons: Not accessible by road, Secured Area, Within 2000 ft. of flammable or explosive material

Bldg. 12B

Integrated Support Command

Kodiak AK

Landholding Agency: Coast Guard

Property Number: 88200810003

Status: Excess

Reasons: Within 2000 ft. of flammable or explosive material, Secured Area, Extensive deterioration

Bldg. 554

Integrated Support Command

Kodiak AK

Landholding Agency: Coast Guard

Property Number: 88200810004

Status: Excess

Reasons: Within 2000 ft. of flammable or explosive material, Secured Area

Bldg. B02

USCG DGPS

Annette Island AK 99926

Landholding Agency: Coast Guard

Property Number: 88200820001

Status: Excess

Reasons: Secured Area

Bldg. B02

USCG DGPS

Gustavus AK 99826

Landholding Agency: Coast Guard

Property Number: 88200820002

Status: Excess

Reasons: Secured Area

Bldg. 10

LORAN Station

Carroll Inlet AK

Landholding Agency: Coast Guard

Property Number: 88200840001

Status: Excess

Reasons: Extensive deterioration, Not accessible by road

Transmitter Bldg. B4A

Loran Station

St. Paul AK 99660

Landholding Agency: Coast Guard

Property Number: 88200920001

Status: Excess

Reasons: Contamination

Arizona

Railroad Spur

Davis-Monthan AFB

Tucson AZ 85707

Landholding Agency: Air Force

Property Number: 18200730002

Status: Excess

Reasons: Within airport runway clear zone

California

Bldgs. 5001 thru 5082 Edwards AFB

Area A

Los Angeles CA 93524

Landholding Agency: Air Force

Property Number: 18200620002

Status: Unutilized

Reasons: Extensive deterioration, Secured Area

Garages 25001 thru 25100

Edwards AFB

Area A

Los Angeles CA 93524

Landholding Agency: Air Force

Property Number: 18200620003

Status: Unutilized

Reasons: Extensive deterioration, Secured Area

Bldg. 00275

Edwards AFB

Kern CA 93524

Landholding Agency: Air Force

Property Number: 18200730003

Status: Unutilized

Reasons: Extensive deterioration, Secured Area, Within airport runway clear zone

Bldgs. 02845, 05331, 06790

Edwards AFB

Kern CA 93524

Landholding Agency: Air Force

Property Number: 18200740001

Status: Unutilized

Reasons: Extensive deterioration

Bldgs. 07173, 07175, 07980

Edwards AFB

Kern CA 93524

Landholding Agency: Air Force

Property Number: 18200740002

Status: Unutilized

Reason: Secured Area

Bldg. 5308

Edwards AFB

Kern CA 93523

Landholding Agency: Air Force

Property Number: 18200810003

Status: Unutilized

Reasons: Secured Area, Extensive deterioration

Facility 100

Pt. Arena AF Station

Mendocino CA 95468

Landholding Agency: Air Force

Property Number: 18200810004

Status: Excess

Reasons: Extensive deterioration, Secured Area

Bldgs. 1952, 1953, 1957, 1958 Vandenberg AFB

Vandenberg CA 93437

Landholding Agency: Air Force

Property Number: 18200820007

Status: Unutilized

Reasons: Secured Area

Bldgs. 1992, 1995

Vandenberg AFB

Vandenberg CA 93437

Landholding Agency: Air Force

Property Number: 18200820008

Status: Unutilized

Reasons: Secured Area

5 Bldgs.

Pt. Arena AF Station

101, 102, 104, 105, 108

Mendocino CA 95468

Landholding Agency: Air Force

Property Number: 18200820019

Status: Excess

Reasons: Extensive deterioration, Secured Area

Bldgs. 160, 161, 166

Pt. Arena AF Station

Mendocino CA 95468

Landholding Agency: Air Force

Property Number: 18200820020

Status: Excess

Reasons: Secured Area, Extensive deterioration

8 Bldgs.

Pt. Arena AF Station

Mendocino CA 95468

Landholding Agency: Air Force

Property Number: 18200820021

Status: Excess

Directions: 201, 202, 203, 206, 215, 216, 217, 218

Reasons: Secured Area, Extensive deterioration

7 Bldgs.

Pt. Arena AF Station

Mendocino CA 95468

Landholding Agency: Air Force

Property Number: 18200820022

Status: Excess

Directions: 220, 221, 222, 223, 225, 226, 228

Reasons: Extensive deterioration, Secured Area

Bldg. 408

Pt. Arena AF Station

Mendocino CA 95468

Landholding Agency: Air Force

Property Number: 18200820023

Status: Excess

Reasons: Extensive deterioration, Secured Area

Bldgs. 601 thru 610

Pt. Arena AF Station

Mendocino CA 95468

Landholding Agency: Air Force

Property Number: 18200820024

Status: Excess

Reasons: Secured Area, Extensive deterioration

Bldgs. 611-619

Pt. Arena AF Station

Mendocino CA 95468

Landholding Agency: Air Force

Property Number: 18200820025

Status: Excess

Reasons: Secured Area, Extensive deterioration

Bldgs. 620 thru 627

Pt. Arena AF Station

Mendocino CA 95468

Landholding Agency: Air Force

Property Number: 18200820026

Status: Excess

Reasons: Extensive deterioration, Secured Area

Bldgs. 654, 655, 690

Pt. Arena AF Station

Mendocino CA 95468

Landholding Agency: Air Force

Property Number: 18200820027

Status: Excess

Reasons: Secured Area, Extensive deterioration

Bldgs. 300, 387

Pt Arena Comm Annex

Mendocino CA 95468

Landholding Agency: Air Force

Property Number: 18200820029

Status: Excess

Reasons: Extensive deterioration, Secured Area

Bldgs. 700, 707, 796, 797

Pt. Arena Comm Annex

Mendocino CA 95468

Landholding Agency: Air Force

Property Number: 18200820030

Status: Excess

Reasons: Secured Area, Extensive deterioration

Bldgs. 748, 838

Vandenberg AFB

Vandenberg CA 93437

Landholding Agency: Air Force

Property Number: 18200820033

Status: Unutilized

Reasons: Secured Area

Bldgs. 1412, 2422, 3514

Edwards AFB

Kern CA 93524

Landholding Agency: Air Force

Property Number: 18200840001

Status: Unutilized

Reasons: Extensive deterioration, Secured Area

Bldg. 417

Fort MacArthur

Fort MacArthur CA

Landholding Agency: Air Force

Property Number: 18200920003

Status: Unutilized

Reasons: Secured Area, Extensive deterioration

6 Bldgs.

Beale AFB

Beale AFB CA 95903

Landholding Agency: Air Force

Property Number: 18200930001

Status: Unutilized

Directions: 355, 421, 1062, 1088, 1250, 1280

Reasons: Extensive deterioration

7 Bldgs.

Beale AFB

Beale AFB CA 95903

Landholding Agency: Air Force

Property Number: 18200930002

Status: Unutilized

Directions: 2160, 2171, 2340, 2432, 2491, 2560, 5800

Reasons: Extensive deterioration

5 Bldgs.

Edwards AFB

Kern CA 93523

Landholding Agency: Air Force

Property Number: 18200930003

Status: Unutilized

Directions: 3505, 601, 225, 4700, 4222

Reasons: Secured Area

Bldgs. M03, MO14, MO17

Sandia National Lab

Livermore Co: Alameda CA 94550

Landholding Agency: Energy

Property Number: 41200220001

Status: Excess

Reasons: Extensive deterioration

Bldgs. C920, C921, C922

Sandia Natl Laboratories

Livermore Co: Alameda CA 94551

Landholding Agency: Energy

Property Number: 41200540001

Status: Unutilized

Reasons: Extensive deterioration, Secured Area

Bldg. 175

Livermore National Lab

Livermore CA

Landholding Agency: Energy

Property Number: 41200630001

Status: Excess

Reasons: Within 2000 ft. of flammable or explosive material, Secured Area

Trailer 1403

Livermore National Lab

Livermore CA

Landholding Agency: Energy

Property Number: 41200630003

Status: Excess

Reasons: Secured Area, Within 2000 ft. of flammable or explosive material

Trailer 3703

Livermore National Lab

Livermore CA

Landholding Agency: Energy

Property Number: 41200630004

Status: Excess

Reasons: Within 2000 ft. of flammable or explosive material, Secured Area

Bldg. 363

National Laboratory

Livermore CA

Landholding Agency: Energy

Property Number: 41200710001

Status: Excess

Reasons: Secured Area

Bldgs. 436, 446

National Laboratory

Livermore CA

Landholding Agency: Energy

Property Number: 41200710002

Status: Excess

Reasons: Secured Area

Bldg. 3520

National Laboratory

Livermore CA

Landholding Agency: Energy

Property Number: 41200710003

Status: Excess

Reasons: Within 2000 ft. of flammable or explosive material, Secured Area

Bldgs. 4182, 4184, 4187

National Laboratory

Livermore CA

Landholding Agency: Energy

Property Number: 41200710004

Status: Excess

Reasons: Within 2000 ft. of flammable or explosive material, Secured Area

Bldg. 5974

National Laboratory

Livermore CA

Landholding Agency: Energy

Property Number: 41200710005

Status: Excess

Reasons: Secured Area, Within 2000 ft. of flammable or explosive material

Bldgs. 194A, 198

Lawrence Livermore Natl Lab

Livermore CA

Landholding Agency: Energy

Property Number: 41200720007

Status: Excess

Reasons: Secured Area, Within 2000 ft. of flammable or explosive material

Bldgs. 213, 280

Lawrence Livermore Natl Lab

Livermore CA

Landholding Agency: Energy

Property Number: 41200720008

Status: Excess

Reasons: Within 2000 ft. of flammable or explosive material, Secured Area

Bldgs. 312, 345

Lawrence Livermore Natl Lab

Livermore CA

Landholding Agency: Energy

Property Number: 41200720009

Status: Excess

Reasons: Within 2000 ft. of flammable or explosive material, Secured Area

Bldgs. 2177, 2178

Lawrence Livermore Natl Lab

Livermore CA

Landholding Agency: Energy

Property Number: 41200720010

Status: Excess

Reasons: Within 2000 ft. of flammable or explosive material, Secured Area

Bldgs. 2687, 3777

Lawrence Livermore Natl Lab

Livermore CA

Landholding Agency: Energy

Property Number: 41200720011

Status: Excess

Reasons: Within 2000 ft. of flammable or explosive material, Secured Area

Bldgs. 263, 419

Lawrence Livermore Natl Lab

Livermore CA

Landholding Agency: Energy

Property Number: 41200720012

Status: Excess

Reasons: Secured Area, Within 2000 ft. of flammable or explosive material

Bldgs. 1401, 1402, 1404

Lawrence Livermore Natl Lab

Livermore CA

Landholding Agency: Energy

Property Number: 41200720013

Status: Excess

Reasons: Secured Area, Within 2000 ft. of flammable or explosive material

Bldgs. 1405, 1406, 1407

Lawrence Livermore Natl Lab

Livermore CA

Landholding Agency: Energy

Property Number: 41200720014

Status: Excess

Reasons: Secured Area, Within 2000 ft. of flammable or explosive material

Bldgs. 1408, 1413, 1456

Lawrence Livermore Natl Lab

Livermore CA

Landholding Agency: Energy

Property Number: 41200720015

Status: Excess

Reasons: Secured Area, Within 2000 ft. of flammable or explosive material

Bldg. 2684

Lawrence Livermore Natl Lab

Livermore CA

Landholding Agency: Energy

Property Number: 41200720016

Status: Excess

Reasons: Secured Area, Within 2000 ft. of flammable or explosive material

Bldg. CM46A

Sandia Natl Lab

Livermore CA 94551

Landholding Agency: Energy

Property Number: 41200730005

Status: Excess

Reasons: Secured Area

Bldgs. 445, 534

Lawrence Livermore Natl Lab

Livermore CA

Landholding Agency: Energy

Property Number: 41200740001

Status: Excess

Reasons: Secured Area, Within 2000 ft. of flammable or explosive material

4 Bldgs.

Lawrence Livermore Natl Lab

802A, 811, 830, 854A

Livermore CA

Landholding Agency: Energy

Property Number: 41200740002

Status: Excess

Reasons: Secured Area, Within 2000 ft. of flammable or explosive material

Bldgs. 8806, 8710, 8711

Lawrence Livermore Natl Lab

Livermore CA

Landholding Agency: Energy

Property Number: 41200740003

Status: Excess

Reasons: Secured Area, Within 2000 ft. of flammable or explosive material

Bldgs. 1492, 1526, 1579

Lawrence Livermore National Lab

Livermore CA

Landholding Agency: Energy

Property Number: 41200740005

Status: Excess

Reasons: Secured Area

Bldgs. 1601, 1632

Lawrence Livermore National Lab

Livermore CA

Landholding Agency: Energy

Property Number: 41200740006

Status: Excess

Reasons: Secured Area

Bldgs. 2552, 2685, 2728

Lawrence Livermore National Lab

Livermore CA

Landholding Agency: Energy

Property Number: 41200740007

Status: Excess

Reasons: Secured Area

Bldgs. 2801, 2802

Lawrence Livermore National Lab

Livermore CA

Landholding Agency: Energy

Property Number: 41200740008

Status: Excess

Reasons: Secured Area

Bldgs. 3175, 3751, 3775

Lawrence Livermore National Lab

Livermore CA

Landholding Agency: Energy

Property Number: 41200740009

Status: Excess

Reasons: Secured Area

4 Bldgs.

Lawrence Livermore National Lab

Livermore CA

Landholding Agency: Energy

Property Number: 41200740010

Status: Excess

Directions: 4161, 4316, 4384, 4388

Reasons: Secured Area

Bldgs. 4406, 4475

Lawrence Livermore National Lab

Livermore CA

Landholding Agency: Energy

Property Number: 41200740011

Status: Excess

Reasons: Secured Area

Bldgs. 4905, 4906, 4926

Lawrence Livermore National Lab

Livermore CA

Landholding Agency: Energy

Property Number: 41200740012

Status: Excess

Reasons: Secured Area

Bldg. 5425

Lawrence Livermore National Lab

Livermore CA

Landholding Agency: Energy

Property Number: 41200740013

Status: Excess

Reasons: Secured Area

10 Bldgs.

Lawrence Livermore Natl Lab

Livermore CA

Landholding Agency: Energy

Property Number: 41200830002

Status: Excess

Directions: 2127, 4302, 4377, 4378, 4383, 5225, 5976, 5979, 5980, 6203

Reasons: Secured Area, Within 2000 ft. of flammable or explosive material

5 Bldgs.

Lawrence Livermore Natl Lab

1481, 1527, 1884, 1885, 1927

Livermore CA

Landholding Agency: Energy

Property Number: 41200840001

Status: Excess

Reasons: Extensive deterioration

Bldgs. 3577, 3982, 4128

Lawrence Livermore Natl Lab

Livermore CA

Landholding Agency: Energy

Property Number: 41200840002

Status: Excess

Reasons: Secured Area

Bldgs. 328, 367, 376

Lawrence Livermore Natl Lab

Livermore CA

Landholding Agency: Energy

Property Number: 41200840008

Status: Excess

Reasons: Within 2000 ft. of flammable or explosive material, Secured Area

Bldg. 5125

Lawrence Livermore Natl Lab

Livermore CA

Landholding Agency: Energy

Property Number: 41200840009

Status: Excess

Reasons: Secured Area, Within 2000 ft. of flammable or explosive material

6 Bldgs.

Lawrence Livermore Natl Lab

Livermore CA

Landholding Agency: Energy

Property Number: 41200840010

Status: Excess

Directions: 1407, 1408, 1413, 1492, 1526, 1579

Reasons: Secured Area, Within 2000 ft. of flammable or explosive material

6 Bldgs.

Lawrence Livermore Natl Lab

Livermore CA

Landholding Agency: Energy

Property Number: 41200840011

Status: Excess

Directions: 3775, 4161, 4316, 4388, 4905, 4906

Reasons: Within 2000 ft. of flammable or explosive material, Secured Area

Bldgs. 8710, 8711, 8806

Lawrence Livermore Natl Lab

Livermore CA

Landholding Agency: Energy

Property Number: 41200840012

Status: Excess

Reasons: Secured Area, Within 2000 ft. of flammable or explosive material

6 Bldgs.

Lawrence Livermore Natl Lab

Livermore CA

Landholding Agency: Energy

Property Number: 41200920005

Status: Excess

Directions: 1541, 1878, 2727, 3180, 4107, 5477

Reasons: Secured Area

Bldg. 2533

Marine Corps Base

Camp Pendleton CA 92055

Landholding Agency: Navy

Property Number: 77200520005

Status: Excess

Reasons: Extensive deterioration, Secured Area

Bldg. 13111

Marine Corps Base

Camp Pendleton CA 92055

Landholding Agency: Navy

Property Number: 77200520006

Status: Excess

Reasons: Extensive deterioration, Secured Area

Bldgs. 53325, 53326

Marine Corps Base

Camp Pendleton CA 92055

Landholding Agency: Navy

Property Number: 77200520007

Status: Excess

Reasons: Extensive deterioration, Secured Area

5 Bldgs.

Marine Corps Base

53421, 53424 thru 53427

Camp Pendleton CA 92055

Landholding Agency: Navy

Property Number: 77200520008

Status: Excess

Reasons: Secured Area, Extensive deterioration

Bldgs. 61311, 61313, 61314

Marine Corps Base

Camp Pendleton CA 92055

Landholding Agency: Navy

Property Number: 77200520009

Status: Excess

Reasons: Extensive deterioration, Secured Area

Bldgs. 61320-61324, 61326

Marine Corps Base

Camp Pendleton CA 92055

Landholding Agency: Navy

Property Number: 77200520010

Status: Excess

Reasons: Secured Area, Extensive deterioration

Bldgs. 62711 thru 62717

Marine Corps Base

Camp Pendleton CA 92055

Landholding Agency: Navy

Property Number: 77200520011

Status: Excess

Reasons: Secured Area, Extensive deterioration

Bldgs. 4

Naval Submarine Base

Point Loma CA

Landholding Agency: Navy

Property Number: 77200520014

Status: Unutilized

Reasons: Extensive deterioration

Bldgs. 8915, 8931

Naval Weapons Station

Seal Beach CA 90740

Landholding Agency: Navy

Property Number: 77200530004

Status: Excess

Reasons: Extensive deterioration

Bldgs. 11, 112

Naval Weapons Station

Seal Beach CA 90740

Landholding Agency: Navy

Property Number: 77200530005

Status: Unutilized

Reasons: Extensive deterioration

Bldg. 805

Naval Weapons Station

Seal Beach CA 90740

Landholding Agency: Navy

Property Number: 77200530006

Status: Unutilized

Reasons: Extensive deterioration

Bldgs. 810 thru 823

Naval Weapons Station

Seal Beach CA 90740

Landholding Agency: Navy

Property Number: 77200530007

Status: Unutilized

Reasons: Extensive deterioration

Bldgs. 851, 859, 864

Naval Weapons Station

Seal Beach CA 90740

Landholding Agency: Navy

Property Number: 77200530008

Status: Unutilized

Reasons: Extensive deterioration

Bldg. 1146

Naval Base

Port Hueneme Co: Ventura CA 93042

Landholding Agency: Navy

Property Number: 77200530009

Status: Unutilized

Reasons: Extensive deterioration

Bldgs. 1370, 1371, 1372

Naval Base

Port Hueneme Co: Ventura CA 93042

Landholding Agency: Navy

Property Number: 77200530011

Status: Unutilized

Reasons: Extensive deterioration

Bldg. 115

Naval Base

San Diego CA

Landholding Agency: Navy

Property Number: 77200530012

Status: Excess

Reasons: Extensive deterioration

Bldg. 1674

Marine Corps Base

Camp Pendletoon CA 92055

Landholding Agency: Navy

Property Number: 77200530027

Status: Excess

Reasons: Extensive deterioration, Secured Area

Bldgs. 2636, 2651, 2658

Marine Corps Base

Camp Pendleton CA 92055

Landholding Agency: Navy

Property Number: 77200530028

Status: Excess

Reasons: Extensive deterioration, Secured Area

4 Bldgs.

Marine Corps Base

Camp Pendleton CA 92055

Landholding Agency: Navy

Property Number: 77200530029

Status: Excess

Directions: 26053, 26054, 26056, 26059

Reasons: Secured Area, Extensive deterioration

Bldgs. 53333, 53334

Marine Corps Base

Camp Pendleton CA 92055

Landholding Agency: Navy

Property Number: 77200530030

Status: Excess

Reasons: Secured Area, Extensive deterioration

Bldgs. 53507, 53569

Marine Corps Base

Camp Pendleton CA 92055

Landholding Agency: Navy

Property Number: 77200530031

Status: Excess

Reasons: Secured Area, Extensive deterioration

Bldg. 170111

Marine Corps Base

Camp Pendleton CA 92055

Landholding Agency: Navy

Property Number: 77200530032

Status: Excess

Reasons: Extensive deterioration, Secured Area

Bldg. PM4-3

Naval Base

Oxnard Co: Ventura CA 93042

Landholding Agency: Navy

Property Number: 77200530033

Status: Unutilized

Reasons: Extensive deterioration

Bldg. 1781

Marine Corps Base

Camp Pendleton CA 92055

Landholding Agency: Navy

Property Number: 77200540001

Status: Excess

Reasons: Extensive deterioration, Secured Area

Bldgs. 398, 399, 404

Naval Base Point Loma

San Diego CA

Landholding Agency: Navy

Property Number: 77200540003

Status: Unutilized

Reasons: Extensive deterioration

Bldgs. 388, 389, 390, 391

Naval Base Point Loma

San Diego CA

Landholding Agency: Navy

Property Number: 77200540004

Status: Unutilized

Reasons: Extensive deterioration

Bldg. 16

Naval Submarine Base

San Diego CA

Landholding Agency: Navy

Property Number: 77200540017

Status: Unutilized

Reasons: Within 2000 ft. of flammable or explosive material Secured Area, Extensive deterioration

Bldg. 325

Naval Base

Port Hueneme Co: Ventura CA 93043

Landholding Agency: Navy

Property Number: 77200610001

Status: Unutilized

Reasons: Extensive deterioration, Secured Area, Within airport runway clear zone

Bldgs. 1647, 1648

Marine Corps Base

Camp Pendleton CA 92055

Landholding Agency: Navy

Property Number: 77200610010

Status: Excess

Reasons: Extensive deterioration

Bldg. 1713

Marine Corps Base

Camp Pendleton CA 92055

Landholding Agency: Navy

Property Number: 77200610011

Status: Excess

Reasons: Extensive deterioration

Bldg. 220189

Marine Corps Base

Camp Pendleton CA 92055

Landholding Agency: Navy

Property Number: 77200610014

Status: Excess

Reasons: Extensive deterioration

Bldg. 2295

Marine Corps Base

Camp Pendleton CA 92055

Landholding Agency: Navy

Property Number: 77200610015

Status: Excess

Reasons: Extensive deterioration

Bldgs. 22115, 22116, 22117

Marine Corps Base

Camp Pendleton CA 92055

Landholding Agency: Navy

Property Number: 77200610016

Status: Excess

Reasons: Extensive deterioration

Bldg. 143

Naval Air Station

Lemoore CA

Landholding Agency: Navy

Property Number: 77200610017

Status: Excess

Reasons: Extensive deterioration

Bldgs. 213, 243, 273

Naval Air Station

Lemoore CA

Landholding Agency: Navy

Property Number: 77200610018

Status: Excess

Reasons: Extensive deterioration

Bldg. 303

Naval Air Station

Lemoore CA

Landholding Agency: Navy

Property Number: 77200610019

Status: Excess

Reasons: Extensive deterioration

Bldg. 471

Naval Air Station

Lemoore CA

Landholding Agency: Navy

Property Number: 77200610020

Status: Excess

Reasons: Extensive deterioration

Bldgs. 979, 928, 930

Naval Air Station

Lemoore CA

Landholding Agency: Navy

Property Number: 77200610021

Status: Excess

Reasons: Extensive deterioration

Bldgs. 999, 1000

Naval Air Station

Lemoore CA

Landholding Agency: Navy

Property Number: 77200610022

Status: Excess

Reasons: Extensive deterioration

Bldgs. 305, 353

Naval Base Point Loma

San Diego CA

Landholding Agency: Navy

Property Number: 77200610023

Status: Unutilized

Reasons: Extensive deterioration

Bldgs. 358, 359, 360, 361

Naval Base Point Loma

San Diego CA

Landholding Agency: Navy

Property Number: 77200610024

Status: Unutilized

Reasons: Extensive deterioration

Bldg. 581

Naval Base Point Loma

San Diego CA

Landholding Agency: Navy

Property Number: 77200610026

Status: Unutilized

Reasons: Extensive deterioration

Bldgs. A25, A27

Naval Base Point Loma

San Diego CA

Landholding Agency: Navy

Property Number: 77200610027

Status: Unutilized

Reasons: Extensive deterioration

Bldgs. 31926, 31927, 31928

Marine Corps Base

Camp Pendleton CA 92055

Landholding Agency: Navy

Property Number: 77200610058

Status: Excess

Reasons: Extensive deterioration

Bldg. 41326

Marine Corps Base

Camp Pendleton CA 92055

Landholding Agency: Navy

Property Number: 77200610059

Status: Excess

Reasons: Extensive deterioration

Bldg. 41816

Marine Corps Base

Camp Pendleton CA 92055

Landholding Agency: Navy

Property Number: 77200610060

Status: Excess

Reasons: Extensive deterioration

Bldgs. 1468, 1469

Naval Base

Port Hueneme Co: Ventura CA 93043

Landholding Agency: Navy

Property Number: 77200630002

Status: Unutilized

Reasons: Secured Area

Bldg. 30869

Naval Air Weapons Station

China Lake CA 93555

Landholding Agency: Navy

Property Number: 77200630005

Status: Excess

Reasons: Secured Area, Extensive deterioration

Bldgs. 2-8, 3-10

Naval Base

Port Mugu Co: Ventura CA 93043

Landholding Agency: Navy

Property Number: 77200630009

Status: Unutilized

Reasons: Extensive deterioration, Secured Area

Bldgs. 6-11, 6-12, 6-819

Naval Base

Port Mugu Co: Ventura CA 93043

Landholding Agency: Navy

Property Number: 77200630010

Status: Unutilized

Reasons: Extensive deterioration, Secured Area

Bldg. 85

Naval Base

Port Mugu Co: Ventura CA 93043

Landholding Agency: Navy

Property Number: 77200630011

Status: Unutilized

Reasons: Extensive deterioration, Secured Area

Bldgs. 120, 123

Naval Base

Port Mugu Co: Ventura CA 93043

Landholding Agency: Navy

Property Number: 77200630012

Status: Unutilized

Reasons: Extensive deterioration, Secured Area

Bldg. 724

Naval Base

Port Mugu Co: Ventura CA 93043

Landholding Agency: Navy

Property Number: 77200630013

Status: Unutilized

Reasons: Extensive deterioration, Secured Area

Bldg. 764

Naval Base

Port Mugu Co: Ventura CA 93043

Landholding Agency: Navy

Property Number: 77200630014

Status: Unutilized

Reasons: Secured Area

Bldg. 115

Naval Base

Port Hueneme Co: Ventura CA 93042

Landholding Agency: Navy

Property Number: 77200630015

Status: Unutilized

Reasons: Extensive deterioration, Secured Area

Bldg. 323

Naval Base

Port Hueneme Co: Ventura CA 93042

Landholding Agency: Navy

Property Number: 77200630016

Status: Unutilized

Reasons: Extensive deterioration, Secured Area

Bldg. 488

Naval Base

Port Hueneme Co: Ventura CA 93042

Landholding Agency: Navy

Property Number: 77200630017

Status: Unutilized

Reasons: Extensive deterioration, Secured Area

Bldg. 842

Naval Base

Port Hueneme Co: Ventura CA 93042

Landholding Agency: Navy

Property Number: 77200630018

Status: Unutilized

Reasons: Extensive deterioration, Secured Area

Bldg. 927

Naval Base

Port Hueneme Co: Ventura CA 93042

Landholding Agency: Navy

Property Number: 77200630019

Status: Unutilized

Reasons: Extensive deterioration, Secured Area

Bldg. 1150

Naval Base

Port Hueneme Co: Ventura CA 93042

Landholding Agency: Navy

Property Number: 77200630020

Status: Unutilized

Reasons: Extensive deterioration, Secured Area

Bldg. 1361

Naval Base

Port Hueneme Co: Ventura CA 93042

Landholding Agency: Navy

Property Number: 77200630021

Status: Unutilized

Reasons: Extensive deterioration, Secured Area

Bldg. PH546

Naval Base

Port Hueneme Co: Ventura CA 93043

Landholding Agency: Navy

Property Number: 77200640027

Status: Unutilized

Reasons: Secured Area, Extensive deterioration

Bldg. PH425

Naval Base

Port Hueneme Co: Ventura CA 93043

Landholding Agency: Navy

Property Number: 77200710001

Status: Unutilized

Reasons: Extensive deterioration, Secured Area

Bldg. PM 134

Naval Base

Point Mugu Co: Ventura CA 93043

Landholding Agency: Navy

Property Number: 77200710023

Status: Unutilized

Reasons: Extensive deterioration, Secured Area

Bldgs. PH837, PH1372

Naval Base

Port Hueneme Co: Ventura CA 93043

Landholding Agency: Navy

Property Number: 77200710024

Status: Unutilized

Reasons: Extensive deterioration, Secured Area

Bldg. 523107

Marine Corps Base

Camp Pendleton CA 92055

Landholding Agency: Navy

Property Number: 77200710025

Status: Excess

Reasons: Extensive deterioration

6 Bldgs.

Marine Corps Base

Camp Pendleton CA 92055

Landholding Agency: Navy

Property Number: 77200710026

Status: Excess

Directions: 523112, 523113, 523114, 523115, 523116, 523117

Reasons: Extensive deterioration

6 Bldgs.

Marine Corps Base

Camp Pendleton CA 92055

Landholding Agency: Navy

Property Number: 77200710027

Status: Excess

Directions: 523122, 523123, 523124, 523125, 523126, 523127

Reasons: Extensive deterioration

6 Bldgs.

Marine Corps Base

Camp Pendleton CA 92055

Landholding Agency: Navy

Property Number: 77200710028

Status: Excess

Directions: 523132, 523133, 523134, 523135, 523136, 523137

Reasons: Extensive deterioration

6 Bldgs.

Marine Corps Base

Camp Pendleton CA 92055

Landholding Agency: Navy

Property Number: 77200710029

Status: Excess

Directions: 523142, 523143, 523144, 523145, 523146, 523147

Reasons: Extensive deterioration

Bldgs. 523156, 523157

Marine Corps Base

Camp Pendleton CA 92055

Landholding Agency: Navy

Property Number: 77200710030

Status: Excess

Reasons: Extensive deterioration

Bldg. 30726

Naval Air Weapons

China Lake CA 93555

Landholding Agency: Navy

Property Number: 77200710047

Status: Excess

Reasons: Secured Area

Bldgs. PH284, PH339

Naval Base

Port Hueneme Co: Ventura CA 93043

Landholding Agency: Navy

Property Number: 77200720001

Status: Unutilized

Reasons: Extensive deterioration, Secured Area

Bldgs. PH805, PH1179

Naval Base

Port Hueneme Co: Ventura CA 93043

Landholding Agency: Navy

Property Number: 77200720002

Status: Unutilized

Reasons: Secured Area, Extensive deterioration

Bldgs. PH1207, PH1264, PH1288

Naval Base

Port Hueneme Co: Ventura CA 93043

Landholding Agency: Navy

Property Number: 77200720003

Status: Unutilized

Reasons: Secured Area, Extensive deterioration

Bldgs. PM 3-53, PM129, PM402

Naval Base

Port Mugu Co: Ventura CA 93043

Landholding Agency: Navy

Property Number: 77200720004

Status: Unutilized

Reasons: Extensive deterioration, Secured Area

Bldg. LP908

Naval Base

Laguna Peak

Port Mugu Co: Ventura CA 93043

Landholding Agency: Navy

Property Number: 77200720005

Status: Unutilized

Reasons: Extensive deterioration, Secured Area

Bldg. PM790

Naval Base

Oxnard CA 93043

Landholding Agency: Navy

Property Number: 77200720006

Status: Unutilized

Reasons: Secured Area, Extensive deterioration

Bldg. 53402

Marine Corps Base

Camp Pendleton CA 92055

Landholding Agency: Navy

Property Number: 77200720007

Status: Excess

Reasons: Extensive deterioration, Secured Area

Bldg. 307

Naval Base

San Diego CA

Landholding Agency: Navy

Property Number: 77200720009

Status: Excess

Reasons: Secured Area

Bldg. 3135

Naval Base

San Diego CA

Landholding Agency: Navy

Property Number: 77200720010

Status: Excess

Reasons: Secured Area

Bldgs. 30727, 31409

Naval Air Weapons Station

China Lake CA 93555

Landholding Agency: Navy

Property Number: 77200720011

Status: Excess

Reasons: Secured Area

Bldgs. 60142, 60158

Naval Base Coronado

San Clemente Island CA

Landholding Agency: Navy

Property Number: 77200720012

Status: Unutilized

Reasons: Not accessible by road, Extensive deterioration

Bldgs. 60160, 60162, 60164

Naval Base Coronado

San Clemente Island CA

Landholding Agency: Navy

Property Number: 77200720013

Status: Unutilized

Reasons: Extensive deterioration

Bldgs. 60203, 60210, 60211

Naval Base Coronado

San Clemente Island CA

Landholding Agency: Navy

Property Number: 77200720014

Status: Unutilized

Reasons: Extensive deterioration

Bldgs. 60214, 60215

Naval Base Coronado

San Clemente Island CA

Landholding Agency: Navy

Property Number: 77200720015

Status: Unutilized

Reasons: Extensive deterioration

Bldgs. 60227, 60243, 60250

Naval Base Coronado

San Clemente Island CA

Landholding Agency: Navy

Property Number: 77200720016

Status: Unutilized

Reasons: Extensive deterioration

Bldg. 60313

Naval Base Coronado

San Clemente Island CA

Landholding Agency: Navy

Property Number: 77200720017

Status: Unutilized

Reasons: Extensive deterioration

Bldg. 404

Naval Air Station

North Island CA

Landholding Agency: Navy

Property Number: 77200720032

Status: Unutilized

Reasons: Extensive deterioration

Bldg. 3267

Naval Base

San Diego CA

Landholding Agency: Navy

Property Number: 77200720039

Status: Unutilized

Reasons: Secured Area

Bldgs. 11090, 98033

Naval Air Weapons

China Lake CA 93555

Landholding Agency: Navy

Property Number: 77200720054

Status: Excess

Reasons: Secured Area, Extensive deterioration

Bldgs. 41314, 41362

Marine Corps Base

Camp Pendleton CA 92055

Landholding Agency: Navy

Property Number: 77200720055

Status: Excess

Reasons: Extensive deterioration

Bldgs. 192, 193, 410

Naval Base

San Diego CA

Landholding Agency: Navy

Property Number: 77200720063

Status: Excess

Reasons: Secured Area

Bldg. 415

Naval Base

San Diego CA

Landholding Agency: Navy

Property Number: 77200730013

Status: Unutilized

Reasons: Secured Area

Bldgs. 3363, 3364

Naval Base

San Diego CA

Landholding Agency: Navy

Property Number: 77200730014

Status: Unutilized

Reasons: Secured Area

4 Bldgs.

Naval Base

3185D, 3222, 3251, 3309

San Diego CA

Landholding Agency: Navy

Property Number: 77200730015

Status: Unutilized

Reasons: Secured Area

Portion/Bldg. T17

Naval Base Point Loma

San Diego CA

Landholding Agency: Navy

Property Number: 77200730016

Status: Underutilized

Reasons: Secured Area

Bldg. 297 Naval Base

San Diego CA

Landholding Agency: Navy

Property Number: 77200730017

Status: Unutilized

Reasons: Secured Area

Bldgs. 13, 87

Naval Air Station

Coronado Co: San Diego CA

Landholding Agency: Navy

Property Number: 77200730022

Status: Excess

Reasons: Extensive deterioration, Secured Area

Bldg. 243

Naval Air Station

Coronado Co: San Diego CA

Landholding Agency: Navy

Property Number: 77200730023

Status: Excess

Reasons: Extensive deterioration, Secured Area

Bldg. 381

Naval Air Station

Coronado Co: San Diego CA

Landholding Agency: Navy

Property Number: 77200730024

Status: Excess

Reasons: Secured Area

4 Bldgs.

Naval Air Station

493, 663, 682, 784

Coronado Co: San Diego CA

Landholding Agency: Navy

Property Number: 77200730025

Status: Excess

Reasons: Extensive deterioration, Secured Area

Bldg. 809

Naval Air Station

Coronado Co: San Diego CA

Landholding Agency: Navy

Property Number: 77200730026

Status: Excess

Reasons: Secured Area

Bldg. 983

Naval Air Station

Coronado Co: San Diego CA

Landholding Agency: Navy

Property Number: 77200730027

Status: Excess

Reasons: Secured Area

Bldg. 1459

Naval Air Station

Coronado Co: San Diego CA

Landholding Agency: Navy

Property Number: 77200730028

Status: Excess

Reasons: Secured Area, Extensive deterioration

Bldg. 334

Naval Base

San Diego CA

Landholding Agency: Navy

Property Number: 77200730029

Status: Excess

Reasons: Secured Area

Bldgs. 124, 148

Naval Air Station

North Island CA

Landholding Agency: Navy

Property Number: 77200740002

Status: Excess

Reasons: Secured Area

Bldgs. 314, 341, 636

Naval Air Station

North Island CA

Landholding Agency: Navy

Property Number: 77200740003

Status: Excess

Reasons: Secured Area

Bldgs. 710, 802, 826

Naval Air Station

North Island CA

Landholding Agency: Navy

Property Number: 77200740004

Status: Excess

Reasons: Secured Area

Bldgs. 60139, 60180

Naval Air Station

San Clemente CA

Landholding Agency: Navy

Property Number: 77200740005

Status: Excess

Reasons: Secured Area

Bldgs. 41313, 41314

Marine Corps Base

Camp Pendleton CA 92055

Landholding Agency: Navy

Property Number: 77200740006

Status: Excess

Reasons: Extensive deterioration, Secured Area

4 Bldgs.

Marine Corps Base

41359, 41362, 41365, 41366

Camp Pendleton CA 92055

Landholding Agency: Navy

Property Number: 77200740007

Status: Excess

Reasons: Extensive deterioration, Secured Area

Bldg. 43976

Marine Corps Base

Camp Pendleton CA 92055

Landholding Agency: Navy

Property Number: 77200740008

Status: Excess

Reasons: Secured Area, Extensive deterioration

Bldgs. 53440, 53831

Marine Corps Base

Camp Pendleton CA 92055

Landholding Agency: Navy

Property Number: 77200740009

Status: Excess

Reasons: Secured Area, Extensive deterioration

Bldg. 410365

Marine Corps Base

Camp Pendleton CA 92055

Landholding Agency: Navy

Property Number: 77200740010

Status: Excess

Reasons: Secured Area, Extensive deterioration

Bldg. 259

Naval Air Station

North Island CA

Landholding Agency: Navy

Property Number: 77200740015

Status: Excess

Reasons: Extensive deterioration, Secured Area

Bldg. 41356

Marine Corps Base

Camp Pendleton CA 92055

Landholding Agency: Navy

Property Number: 77200740017

Status: Excess

Reasons: Extensive deterioration, Secured Area

Bldg. 84

Naval Base

San Diego CA

Landholding Agency: Navy

Property Number: 77200740018

Status: Excess

Reasons: Secured Area

4 Bldgs.

Marine Corps Base

41312, 53426, 53427, 53430

Camp Pendleton CA 92055

Landholding Agency: Navy

Property Number: 77200810008

Status: Excess

Reasons: Secured Area, Extensive deterioration

Bldgs. 2537, 2538

Marine Corps Base

Camp Pendleton CA 92055

Landholding Agency: Navy

Property Number: 77200810009

Status: Excess

Reasons: Extensive deterioration

Bldgs. 43286, 43287

Marine Corps Base

Camp Pendleton CA 92055

Landholding Agency: Navy

Property Number: 77200810010

Status: Excess

Reasons: Extensive deterioration

Bldg. 33007

Naval Air Weapons Station

China Lake CA

Landholding Agency: Navy

Property Number: 77200810011

Status: Excess

Reasons: Within 2000 ft. of flammable or explosive material, Secured Area

Bldgs. 22176, 62507, 410363

Marine Corps Base

Camp Pendleton CA

Landholding Agency: Navy

Property Number: 77200810021

Status: Excess

Reasons: Extensive deterioration, Secured Area

Bldgs. 25261, 41342, 41344

Marine Corps Base

Camp Pendleton CA 92055

Landholding Agency: Navy

Property Number: 77200810026

Status: Excess

Reasons: Secured Area, Extensive deterioration

Bldg. 105

Naval Base

Point Loma Co: San Diego CA

Landholding Agency: Navy

Property Number: 77200820005

Status: Unutilized

Reasons: Secured Area, Extensive deterioration

Bldg. PH1230

Naval Base

Port Hueneme CA 93043

Landholding Agency: Navy

Property Number: 77200820021

Status: Unutilized

Reasons: Extensive deterioration

Bldgs. 17, 37, 130

Naval Base

San Diego CA 92136

Landholding Agency: Navy

Property Number: 77200820023

Status: Excess

Reasons: Secured Area

Bldgs. 3053, 3328

Naval Base

San Diego CA 92136

Landholding Agency: Navy

Property Number: 77200820025

Status: Excess

Reasons: Secured Area

Bldgs. 3368, 3370

Naval Base

San Diego CA 92136

Landholding Agency: Navy

Property Number: 77200820026

Status: Excess

Reasons: Secured Area

Bldgs. 3591, 3592

Naval Base

San Diego CA 92136

Landholding Agency: Navy

Property Number: 77200820027

Status: Excess

Reasons: Secured Area

Bldg. 3603

Naval Base

San Diego CA 92136

Landholding Agency: Navy

Property Number: 77200820028

Status: Excess

Reasons: Secured Area, Floodway

Bldg. PH1230

Naval Base

Port Hueneme CA 93043

Landholding Agency: Navy

Property Number: 77200820029

Status: Unutilized

Reasons: Extensive deterioration, Secured Area

Bldg. PM28

Naval Base

Point Mugu CA 93042

Landholding Agency: Navy

Property Number: 77200820030

Status: Unutilized

Reasons: Secured Area, Extensive deterioration

Bldgs. PH5295, PH5297

Naval Base

Oxnard CA 93042

Landholding Agency: Navy

Property Number: 77200820031

Status: Unutilized

Reasons: Extensive deterioration, Secured Area

4 Bldgs.

Naval Base

Oxnard CA 93042

Landholding Agency: Navy

Property Number: 77200820032

Status: Unutilized

Directions: PH5303, PH5315, PH5318, PH5319

Reasons: Extensive deterioration, Secured Area

Bldgs. PH5323, PH5329

Naval Base

Oxnard CA 93042

Landholding Agency: Navy

Property Number: 77200820033

Status: Unutilized

Reasons: Extensive deterioration, Secured Area

Bldgs. 60180, 60139

San Clemente Island

Naval Base

Coronado CA

Landholding Agency: Navy

Property Number: 77200830001

Status: Excess

Reasons: Secured Area

Bldg. 148

Naval Amphibious Base

Coronado CA

Landholding Agency: Navy

Property Number: 77200830002

Status: Excess

Reasons: Secured Area

Bldgs. 13, 87, 124, 243

Naval Air Station

North Island CA

Landholding Agency: Navy

Property Number: 77200830003

Status: Excess

Reasons: Secured Area

5 Bldgs.

Naval Air Station

307, 311, 314, 341, 381

North Island CA

Landholding Agency: Navy

Property Number: 77200830004

Status: Excess

Reasons: Secured Area

Bldgs. 493

Naval Air Station

North Island CA

Landholding Agency: Navy

Property Number: 77200830005

Status: Excess

Reasons: Secured Area

Bldgs. 636, 663, 682

Naval Air Station

North Island CA

Landholding Agency: Navy

Property Number: 77200830006

Status: Excess

Reasons: Secured Area

Bldgs. 710, 784

Naval Air Station

North Island CA

Landholding Agency: Navy

Property Number: 77200830007

Status: Excess

Reasons: Secured Area

Bldgs. 802, 809, 826

Naval Air Station

North Island CA

Landholding Agency: Navy

Property Number: 77200830008

Status: Excess

Reasons: Secured Area

Bldgs. 983, 1459

Naval Air Station

North Island CA

Landholding Agency: Navy

Property Number: 77200830009

Status: Excess

Reasons: Secured Area

Bldg. 33005

Naval Air Weapons Station

China Lake CA 93555

Landholding Agency: Navy

Property Number: 77200830011

Status: Excess

Reasons: Extensive deterioration, Secured Area, Within 2000 ft. of flammable or explosive material

Bldgs. 2, 10, 59

Naval Base

Point Loma CA

Landholding Agency: Navy

Property Number: 77200830012

Status: Unutilized

Reasons: Secured Area

Bldgs. 25152, 41321, 41406

Marine Corps Base

Camp Pendleton CA 92055

Landholding Agency: Navy

Property Number: 77200830022

Status: Excess

Reasons: Extensive deterioration, Secured Area

Bldg. 1391

Marine Corps Base

Camp Pendleton CA 92055

Landholding Agency: Navy

Property Number: 77200830025

Status: Excess

Reasons: Extensive deterioration

Bldgs. 1211, 1213, 1214, 1216

Marine Corps Base

Camp Pendleton CA 92055

Landholding Agency: Navy

Property Number: 77200830026

Status: Excess

Reasons: Extensive deterioration

Bldgs. 52654, 52655

Marine Corps Base

Camp Pendleton CA 92055

Landholding Agency: Navy

Property Number: 77200830027

Status: Excess

Reasons: Extensive deterioration

Bldgs. 453, 454, 508, 509

Naval Air Station

Lemoore CA

Landholding Agency: Navy

Property Number: 77200840003

Status: Unutilized

Reasons: Within 2000 ft. of flammable or explosive material, Secured Area, Extensive deterioration

Bldgs. 950, 952, 994

Naval Air Station

Lemoore CA

Landholding Agency: Navy

Property Number: 77200840004

Status: Unutilized

Reasons: Secured Area

4 Bldgs.

Marine Corps Base

14113, 14114, 14126, 21401

Camp Pendleton CA

Landholding Agency: Navy

Property Number: 77200840010

Status: Excess

Reasons: Secured Area, Extensive deterioration

4 Bldgs.

Marine Corps Base

Camp Pendleton CA 92055

Landholding Agency: Navy

Property Number: 77200910001

Status: Excess

Directions: 41350, 51916T, 62357T, 62367

Reasons: Extensive deterioration, Secured Area

6 Bldgs.

Naval Air Station

North Island CA

Landholding Agency: Navy

Property Number: 77200910002

Status: Excess

Directions: C38, C47, C85, C93B, C101, C102

Reasons: Secured Area, Extensive deterioration

Bldgs. 78, 126

Naval Base

San Diego CA

Landholding Agency: Navy

Property Number: 77200910003

Status: Excess

Reasons: Extensive deterioration, Secured Area

Bldg. 3493

Naval Base

San Diego CA

Landholding Agency: Navy

Property Number: 77200920001

Status: Unutilized

Reasons: Secured Area

Bldgs. 2245, 2513T, 5509

Marine Corps Air Station

Miramar CA

Landholding Agency: Navy

Property Number: 77200920002

Status: Excess

Reasons: Secured Area, Extensive deterioration

8 Bldgs.

Marine Corps Base

Camp Pendleton CA 92055

Landholding Agency: Navy

Property Number: 77200920003

Status: Excess

Directions: 1255, 1490, 14121, 14122, 14125, 14127, 62432, 140135

Reasons: Secured Area, Extensive deterioration

4 Bldgs.

Naval Air Weapons Station

China Lake CA 93555

Landholding Agency: Navy

Property Number: 77200920004

Status: Excess

Directions: 02702, 02703, 02704, 02705

Reasons: Secured Area, Extensive deterioration

Bldgs. PM3-4, PM153

Naval Base

Point Mugu Co: Ventura CA 93043

Landholding Agency: Navy

Property Number: 77200920005

Status: Unutilized

Reasons: Extensive deterioration, Secured Area

11 Bldgs.

Naval Base

San Nicholas Island Co: Ventura CA 93043

Landholding Agency: Navy

Property Number: 77200920006

Status: Unutilized

Directions: SNI11, 16, 22, 45, 49, 71, 72, 141, 202, 213, 229

Reasons: Extensive deterioration, Secured Area

Bldgs. PM126, 327, 327-A

Naval Base

Point Mugu Co: Ventura CA 93043

Landholding Agency: Navy

Property Number: 77200920007

Status: Unutilized

Reasons: Extensive deterioration, Secured Area

Bldg. PH 462

Naval Base

Port Hueneme Co: Ventura CA 93043

Landholding Agency: Navy

Property Number: 77200920008

Status: Unutilized

Reasons: Extensive deterioration, Secured Area

14 Bldgs.

Naval Base

Point Mugu Co: Ventura CA 93043

Landholding Agency: Navy

Property Number: 77200920009

Status: Unutilized

Directions: PM4-4, 4-27, 4-30, 6-817, 37, 42, 223, 401, 733, 793, 803, 841, 842, 855

Reasons: Secured Area, Extensive deterioration

Bldgs. PH274, 462, 808, 837

Naval Base

Port Hueneme Co: Ventura CA 93043

Landholding Agency: Navy

Property Number: 77200920010

Status: Unutilized

Reasons: Secured Area, Extensive deterioration

Bldg. 22172

Marine Corps Base

Camp Pendleton CA 92055

Landholding Agency: Navy

Property Number: 77200920020

Status: Excess

Reasons: Secured Area, Extensive deterioration

Bldg. SNI258

Naval Base

San Nicolas Island CA 93043

Landholding Agency: Navy

Property Number: 77200920021

Status: Unutilized

Reasons: Extensive deterioration, Secured Area

6 Bldgs.

Naval Base

Point Mugu CA 93042

Landholding Agency: Navy

Property Number: 77200920022

Status: Unutilized

Directions: PM1823A&B, 1825A&B, 1827A&B

Reasons: Secured Area

9 Bldgs.

Naval Base

Point Mugu CA 93042

Landholding Agency: Navy

Property Number: 77200920023

Status: Unutilized

Directions: PM1936, 1937, 1938, 1939, 1959, 1961, 1963, 1965, 1967

Reasons: Secured Area

Bldgs. 22172, 62432

Marine Corps Base

Camp Pendleton CA 92055

Landholding Agency: Navy

Property Number: 77200920027

Status: Excess

Reasons: Secured Area, Extensive deterioration

Bldg. 14123

Marine Corps Base

Camp Pendleton CA 92055

Landholding Agency: Navy

Property Number: 77200920031

Status: Excess

Reasons: Secured Area, Extensive deterioration

Bldg. 3302

Naval Base

San Diego CA

Landholding Agency: Navy

Property Number: 77200920032

Status: Unutilized

Reasons: Secured Area

Bldg. 1680

Naval Base Coronado

Warner Springs CA

Landholding Agency: Navy

Property Number: 77200920033

Status: Excess

Reasons: Extensive deterioration, Secured Area

Bldg. PH-11

Naval Base

Port Hueneme CA 93043

Landholding Agency: Navy

Property Number: 77200920034

Status: Unutilized

Reasons: Extensive deterioration, Secured Area

Bldg. 19

USCG Integrated Sup Comm

San Pedro CA 90731

Landholding Agency: Coast Guard

Property Number: 88200820004

Status: Unutilized

Reasons: Extensive deterioration

Colorado

Bldg. 9038

U.S. Air Force Academy

El Paso CO 80840

Landholding Agency: Air Force

Property Number: 18200920004

Status: Unutilized

Reasons: Extensive deterioration

Bldgs. 1166, 1435

Peterson AFB

Colorado Springs CO 80914

Landholding Agency: Air Force

Property Number: 18200930004

Status: Unutilized

Reasons: Secured Area

Connecticut

Bldgs. 25 and 26

Prospect Hill Road

Windsor Co: Hartford CT 06095

Landholding Agency: Energy

Property Number: 41199440003

Status: Excess

Reasons: Secured Area

9 Bldgs.

Knolls Atomic Power Lab, Windsor Site

Windsor Co: Hartford CT 06095

Landholding Agency: Energy

Property Number: 41199540004

Status: Excess

Reasons: Secured Area

Bldg. 8, Windsor Site

Knolls Atomic Power Lab

Windsor Co: Hartford CT 06095

Landholding Agency: Energy

Property Number: 41199830006

Status: Unutilized

Reasons: Extensive deterioration

District of Columbia

Bldg. 396

Naval Support Facility

Anacostia Annex DC 20373

Landholding Agency: Navy

Property Number: 77200630008

Status: Unutilized

Reasons: Secured Area, Within 2000 ft. of flammable or explosive material

Bldg. W22

Washington Navy Yard

Washington DC 20374

Landholding Agency: Navy

Property Number: 77200820035

Status: Underutilized

Reasons: Secured Area

Bldgs. 29, 57, 92

Naval Annex

Anacostia DC

Landholding Agency: Navy

Property Number: 77200930012

Status: Unutilized

Reasons: Extensive deterioration, Secured Area

Florida

Bldg. 01248

Cape Canaveral AFS

Brevard FL 32925

Landholding Agency: Air Force

Property Number: 18200740003

Status: Unutilized

Reasons: Secured Area

Bldg. 44426

Cape Canaveral AFS

Brevard FL 32925

Landholding Agency: Air Force

Property Number: 18200740004

Status: Unutilized

Reasons: Secured Area

Bldg. 85406

Cape Canaveral AFS

Brevard FL 32925

Landholding Agency: Air Force

Property Number: 18200740005

Status: Unutilized

Reasons: Secured Area

Bldg. 82

Air Force Range

Avon Park FL 33825

Landholding Agency: Air Force

Property Number: 18200840002

Status: Unutilized

Reasons: Secured Area, Contamination

Bldg. 202

Avon Park AF Range

Polk FL 33825

Landholding Agency: Air Force

Property Number: 18200930005

Status: Unutilized

Reasons: Extensive deterioration

Bldg. U-150

Naval Air Station

Key West Co: Monroe FL 33040

Landholding Agency: Navy

Property Number: 77200520044

Status: Excess

Reasons: Extensive deterioration, Secured Area

Bldgs. V1221 A

Naval Air Station

Sigsbee Park

Key West Co: Monroe FL 33040

Landholding Agency: Navy

Property Number: 77200530013

Status: Unutilized

Reasons: Extensive deterioration, Secured Area

Bldg. 969

Naval Air Station

Jacksonville Co: Duval FL 32212

Landholding Agency: Navy

Property Number: 77200540014

Status: Unutilized

Reasons: Secured Area

Bldgs. 1759, 1760

Naval Air Station

Jacksonville Co: Duval FL

Landholding Agency: Navy

Property Number: 77200540015

Status: Unutilized

Reasons: Secured Area

Bldg. 1917

Naval Air Station

Jacksonville Co: Duval FL 32212

Landholding Agency: Navy

Property Number: 77200540016

Status: Unutilized

Reasons: Secured Area

Bldgs. 1, 2

Naval Station

Mayport Co: Duval FL 32228

Landholding Agency: Navy

Property Number: 77200540018

Status: Excess

Reasons: Floodway

Extensive deterioration, Secured Area

Bldg. 24

Naval Station

Mayport Co: Duval FL 32228

Landholding Agency: Navy

Property Number: 77200540019

Status: Excess

Reasons: Floodway, Extensive deterioration, Secured Area

Bldg. 66

Naval Station

Mayport Co: Duval FL 32228

Landholding Agency: Navy

Property Number: 77200540020

Status: Excess

Reasons: Floodway, Secured Area, Extensive deterioration

Bldg. 216

Naval Station

Mayport Co: Duval FL 32228

Landholding Agency: Navy

Property Number: 77200540021

Status: Excess

Reasons: Extensive deterioration Floodway, Secured Area

Bldgs. 437, 450

Naval Station

Mayport Co: Duval FL 32228

Landholding Agency: Navy

Property Number: 77200540022

Status: Excess

Reasons: Floodway, Secured Area, Extensive deterioration

Bldgs. 1234, 1235

Naval Station

Mayport Co: Duval FL 32228

Landholding Agency: Navy

Property Number: 77200540023

Status: Excess

Reasons: Secured Area, Floodway, Extensive deterioration

Bldg. 212

Naval Station

Mayport Co: Duval FL 32228

Landholding Agency: Navy

Property Number: 77200620011

Status: Unutilized

Reasons: Floodway, Extensive deterioration, Secured Area

Bldg. 508

Naval Station

Mayport FL 32228

Landholding Agency: Navy

Property Number: 77200620035

Status: Unutilized

Reasons: Secured Area, Floodway

Bldg. 834

Naval Air Station

Pensacola Co: Escambia FL 32508

Landholding Agency: Navy

Property Number: 77200630022

Status: Unutilized

Reasons: Extensive deterioration

Bldg. 2658

Naval Air Station

Pensacola Co: Escambia FL 32508

Landholding Agency: Navy

Property Number: 77200630023

Status: Unutilized

Reasons: Extensive deterioration

Bldg. 3483

Naval Air Station

Pensacola Co: Escambia FL 32508

Landholding Agency: Navy

Property Number: 77200630024

Status: Unutilized

Reasons: Extensive deterioration

Bldg. 6144

Naval Air Station

Pensacola Co: Escambia FL 32508

Landholding Agency: Navy

Property Number: 77200630025

Status: Unutilized

Reasons: Extensive deterioration

Bldg. F11

Naval Air Station

Key West FL 33040

Landholding Agency: Navy

Property Number: 77200630026

Status: Unutilized

Reasons: Secured Area, Extensive deterioration

Bldgs. A225, A409

Naval Air Station

Key West FL 33040

Landholding Agency: Navy

Property Number: 77200630027

Status: Unutilized

Reasons: Extensive deterioration, Secured Area

Bldg. A515

Naval Air Station

Key West FL 33040

Landholding Agency: Navy

Property Number: 77200630028

Status: Unutilized

Reasons: Secured Area, Extensive deterioration

Bldg. A635

Naval Air Station

Key West FL 33040

Landholding Agency: Navy

Property Number: 77200630029

Status: Unutilized

Reasons: Extensive deterioration, Secured Area

Bldgs. A993, A994

Naval Air Station

Key West FL 33040

Landholding Agency: Navy

Property Number: 77200630030

Status: Unutilized

Reasons: Secured Area, Extensive deterioration

Bldg. A1068

Naval Air Station

Key West FL 33040

Landholding Agency: Navy

Property Number: 77200630031

Status: Unutilized

Reasons: Extensive deterioration, Secured Area

Bldg. A4021

Naval Air Station

Key West FL 33040

Landholding Agency: Navy

Property Number: 77200630032

Status: Unutilized

Reasons: Secured Area, Extensive deterioration

Bldg. 4080

Naval Air Station

Key West FL 33040

Landholding Agency: Navy

Property Number: 77200630033

Status: Unutilized

Reasons: Secured Area, Extensive deterioration

88 Facilities

Saufley Field

Pensacola FL 32508

Landholding Agency: Navy

Property Number: 77200740016

Status: Unutilized

Reasons: Within airport runway clear zone

Bldgs. C5, A329

Naval Air Station

Key West FL 33040

Landholding Agency: Navy

Property Number: 77200810007

Status: Excess

Reasons: Secured Area, Extensive deterioration

Bldgs. 2, 5, 24, 26

Naval Air Station

Jacksonville Co: Duval FL

Landholding Agency: Navy

Property Number: 77200820006

Status: Unutilized

Reasons: Secured Area, Extensive deterioration

Bldgs. 104A, 136, 159

Naval Air Station

Jacksonville Co: Duval FL 32212

Landholding Agency: Navy

Property Number: 77200820007

Status: Unutilized

Reasons: Extensive deterioration, Secured Area

6 Bldgs.

Naval Air Station

Jacksonville Co: Duval FL 32212

Landholding Agency: Navy

Property Number: 77200820008

Status: Unutilized

Directions: 323, 324, 338, 339, 347, 348

Reasons: Secured Area, Extensive deterioration

5 Bldgs.

Naval Air Station

Jacksonville Co: Duval FL 32212

Landholding Agency: Navy

Property Number: 77200820009

Status: Unutilized

Directions: 607, 612, 614B, 674, 675

Reasons: Extensive deterioration, Secured Area

Bldgs. 820, 890

Naval Air Station

Jacksonville Co: Duval FL 32212

Landholding Agency: Navy

Property Number: 77200820010

Status: Unutilized

Reasons: Extensive deterioration, Secured Area

Bldgs. 1756, 1937

Naval Air Station

Jacksonville Co: Duval FL 32212

Landholding Agency: Navy

Property Number: 77200820011

Status: Unutilized

Reasons: Secured Area, Extensive deterioration

Georgia

6 Cabins

QSRG Grassy Pond Rec Annex

Lake Park GA 31636

Landholding Agency: Air Force

Property Number: 18200730004

Status: Unutilized

Reasons: Extensive deterioration

Bldgs. 101, 102, 103

Moody AFB

Lowndes GA 31699

Landholding Agency: Air Force

Property Number: 18200810006

Status: Excess

Reasons: Extensive deterioration

Bldgs. 330, 331, 332, 333

Moody AFB

Lowndes GA 31699

Landholding Agency: Air Force

Property Number: 18200810007

Status: Excess

Reasons: Extensive deterioration

Bldgs. 794, 1541

Moody AFB

Lowndes GA

Landholding Agency: Air Force

Property Number: 18200820012

Status: Unutilized

Reasons: Secured Area

Bldg. 970

Moody AFB

Lowndes GA 31699

Landholding Agency: Air Force

Property Number: 18200840003

Status: Unutilized

Reasons: Secured Area

Bldg. 205

Moody AFB

Lowndes GA 31699

Landholding Agency: Air Force

Property Number: 18200920005

Status: Unutilized

Reasons: Secured Area, Extensive deterioration

Bldgs. 104, 118, 739, 742, 973

Moody AFB

Lowndes GA 31699

Landholding Agency: Air Force

Property Number: 18200920016

Status: Unutilized

Reasons: Secured Area, Extensive deterioration

Bldg. 5101

Naval Submarine Base

Kings Bay Co: Camden GA 31547

Landholding Agency: Navy

Property Number: 77200520004

Status: Unutilized

Reasons: Floodway, Secured Area, Extensive deterioration

Bldg. 0038

Naval Submarine Base

Kings Bay GA 31547

Landholding Agency: Navy

Property Number: 77200620036

Status: Unutilized

Reasons: Secured Area, Extensive deterioration

7 Bldgs.

Marine Logistics Base

Albany GA

Landholding Agency: Navy

Property Number: 77200720040

Status: Excess

Directions: 7100, 7106, 7108, 7110, 5584, 7964, 7966

Reasons: Secured Area

Guam

Bldg. 1094

AAFB Yigo

Yigo GU 96543

Landholding Agency: Air Force

Property Number: 18200830007

Status: Unutilized

Reasons: Extensive deterioration

15 Bldgs.

Andersen AFB

Yigo GU 96543

Landholding Agency: Air Force

Property Number: 18200920006

Status: Excess

Reasons: Secured Area

Bldgs. 72, 73, 74

Andersen AFB

Mount Santa Rosa GU

Landholding Agency: Air Force

Property Number: 18200920017

Status: Excess

Reasons: Extensive deterioration, Secured Area

Bldgs. 101, 102

Andersen AFB

Pots Junction GU

Landholding Agency: Air Force

Property Number: 18200920018

Status: Excess

Reasons: Extensive deterioration

Bldg. B-32

Naval Forces

Marianas GU

Landholding Agency: Navy

Property Number: 77200520023

Status: Unutilized

Reasons: Extensive deterioration

Bldgs. 76, 77, 79

Naval Forces

Marianas GU

Landholding Agency: Navy

Property Number: 77200520024

Status: Unutilized

Reasons: Extensive deterioration

4 Bldgs.

Naval Forces

261, 262, 263, 269

Marianas GU

Landholding Agency: Navy

Property Number: 77200520025

Status: Unutilized

Reasons: Extensive deterioration

Bldg. 404NM

Naval Forces

Marianas GU

Landholding Agency: Navy

Property Number: 77200520026

Status: Unutilized

Reasons: Extensive deterioration

Bldgs. 3150, 3268

Naval Forces

Marianas GU

Landholding Agency: Navy

Property Number: 77200520030

Status: Unutilized

Reasons: Extensive deterioration

Bldgs. 5409, 5412, 5413

Naval Forces

Marianas GU

Landholding Agency: Navy

Property Number: 77200520031

Status: Unutilized

Reasons: Extensive deterioration

Bldg. 5500

Naval Forces

Marianas GU

Landholding Agency: Navy

Property Number: 77200520032

Status: Unutilized

Reasons: Extensive deterioration

73 Bldgs.

Naval Computer Station

Marianas GU

Landholding Agency: Navy

Property Number: 77200520045

Status: Excess

Directions: A700-A716, A725, A728, A735, A741-A784, A803-A805, A811-A813, A829-A831

Reasons: Extensive deterioration, Secured Area

Bldgs. 2006, 2009

Naval Ship Repair Facility

Marianas GU

Landholding Agency: Navy

Property Number: 77200520048

Status: Excess

Reasons: Extensive deterioration, Secured Area

Bldgs. 2014, 2916

Naval Ship Repair Facility

Marianas GU

Landholding Agency: Navy

Property Number: 77200520049

Status: Excess

Reasons: Extensive deterioration, Secured Area

Bldgs. 277, 308

Naval Forces Marianas

Santa Rita Co: Apra Harbor GU

Landholding Agency: Navy

Property Number: 77200610028

Status: Excess

Reasons: Secured Area

Bldgs. 1686, 1689, 1690

Naval Forces Marianas

Santa Rita Co: Apra Harbor GU

Landholding Agency: Navy

Property Number: 77200610029

Status: Excess

Reasons: Secured Area

Bldgs. 1714, 1767, 1768

Naval Forces Marianas

Santa Rita Co: Apra Harbor GU

Landholding Agency: Navy

Property Number: 77200610030

Status: Excess

Reasons: Secured Area

Bldgs. 1771, 1772, 1773

Naval Forces Marianas

Santa Rita Co: Apra Harbor GU

Landholding Agency: Navy

Property Number: 77200610031

Status: Excess

Reasons: Secured Area

Bldgs. 1791, 1792

Naval Forces Marianas

Santa Rita Co: Apra Harbor GU

Landholding Agency: Navy

Property Number: 77200610032

Status: Excess

Reasons: Secured Area

Bldgs. 3000, 3001

Naval Forces Marianas

Santa Rita Co: Apra Harbor GU

Landholding Agency: Navy

Property Number: 77200610033

Status: Excess

Reasons: Secured Area

Bldgs. 3002, 3004, 3005

Naval Forces Marianas

Santa Rita Co: Apra Harbor GU

Landholding Agency: Navy

Property Number: 77200610034

Status: Excess

Reasons: Secured Area

Bldgs. 3006, 3007

Naval Forces Marianas

Santa Rita Co: Apra Harbor GU

Landholding Agency: Navy

Property Number: 77200610035

Status: Excess

Reasons: Secured Area

Steam Plant

Naval Forces Marianas

Santa Rita Co: Apra Harbor GU

Landholding Agency: Navy

Property Number: 77200610036

Status: Excess

Reasons: Secured Area

Bldgs. 403, 404

Marianas Support Activity

Santa Rita Co: Naval Magazine GU

Landholding Agency: Navy

Property Number: 77200620013

Status: Unutilized

Reasons: Secured Area

Bldgs. 464, 729

Marianas Support Activity

Santa Rita Co: Naval Magazine GU

Landholding Agency: Navy

Property Number: 77200620014

Status: Unutilized

Reasons: Secured Area

Bldgs. 836, 837

Marianas Support Activity

Santa Rita Co: Naval Magazine GU

Landholding Agency: Navy

Property Number: 77200620015

Status: Unutilized

Reasons: Extensive deterioration, Secured Area

Bldg. 11XC7

Marianas Support Activity

Santa Rita Co: Naval Magazine GU

Landholding Agency: Navy

Property Number: 77200620016

Status: Unutilized

Reasons: Extensive deterioration, Secured Area

Bldgs. 23YC1, 23YC2, 23YC3

Marianas Support Activity

Santa Rita Co: Naval Magazine GU

Landholding Agency: Navy

Property Number: 77200620017

Status: Unutilized

Reasons: Extensive deterioration, Secured Area

Bldgs. 23YC4, 23YC5

Marianas Support Activity

Santa Rita Co: Naval Magazine GU

Landholding Agency: Navy

Property Number: 77200620018

Status: Unutilized

Reasons: Extensive deterioration, Secured Area

Bldgs. 24YC7, 24YC8

Marianas Support Activity

Santa Rita Co: Naval Magazine GU

Landholding Agency: Navy

Property Number: 77200620019

Status: Unutilized

Reasons: Extensive deterioration, Secured Area

Bldgs. 26YC3, 26YC5

Marianas Support Activity

Santa Rita Co: Naval Magazine GU

Landholding Agency: Navy

Property Number: 77200620020

Status: Unutilized

Reasons: Extensive deterioration, Secured Area

Old Bus Stop

Marianas Support Activity

Santa Rita Co: Naval Magazine GU

Landholding Agency: Navy

Property Number: 77200620021

Status: Unutilized

Reasons: Extensive deterioration, Secured Area

2 Guard Houses

Marianas Support Activity

Santa Rita Co: Naval Magazine GU

Landholding Agency: Navy

Property Number: 77200620022

Status: Unutilized

Reasons: Extensive deterioration, Secured Area

9 Magazines

Marianas Support Activity

Santa Rita Co: Naval Magazine GU

Landholding Agency: Navy

Property Number: 77200620023

Status: Unutilized

Reasons: Secured Area, Extensive deterioration

Bldgs. 151, 152, 153

Naval Forces Marianas

Santa Rita Co: Apra Harbor GU

Landholding Agency: Navy

Property Number: 77200630001

Status: Unutilized

Reasons: Extensive deterioration

Bldg. 4

Naval Base

Barrigada GU

Landholding Agency: Navy

Property Number: 77200710002

Status: Unutilized

Reasons: Extensive deterioration

Bldg. C115

Naval Base

Barrigada GU

Landholding Agency: Navy

Property Number: 77200710003

Status: Unutilized

Reasons: Extensive deterioration

Bldg. 160

Naval Base

Barrigada GU

Landholding Agency: Navy

Property Number: 77200710004

Status: Unutilized

Reasons: Extensive deterioration

Bldg. 176

Naval Base

Barrigada GU

Landholding Agency: Navy

Property Number: 77200710005

Status: Unutilized

Reasons: Extensive deterioration

Bldg. 33

Naval Base

Santa Rita Co: Apra Harbor GU

Landholding Agency: Navy

Property Number: 77200710006

Status: Excess

Reasons: Extensive deterioration

Bldg. 219

Naval Base

Santa Rita Co: Apra Harbor GU

Landholding Agency: Navy

Property Number: 77200710007

Status: Excess

Reasons: Extensive deterioration

Bldg. 950

Naval Base

Santa Rita Co: Apra Harbor GU

Landholding Agency: Navy

Property Number: 77200710008

Status: Excess

Reasons: Extensive deterioration

Bldg. 1769

Naval Base

Santa Rita Co: Apra Harbor GU

Landholding Agency: Navy

Property Number: 77200710009

Status: Excess

Reasons: Extensive deterioration

Bldgs. 3186, 3187, 3188

Naval Base

Santa Rita Co: Apra Harbor GU

Landholding Agency: Navy

Property Number: 77200710010

Status: Excess

Reasons: Extensive deterioration

Bldgs. 4408, 4409

Naval Base

Santa Rita Co: Apra Harbor GU

Landholding Agency: Navy

Property Number: 77200710011

Status: Excess

Reasons: Extensive deterioration

Hazmat Storage

Naval Base

Polaris Point

Santa Rita Co: Apra Harbor GU

Landholding Agency: Navy

Property Number: 77200710012

Status: Excess

Reasons: Extensive deterioration

Storage Bldg.

Naval Base

Polaris Point

Santa Rita Co: Apra Harbor GU

Landholding Agency: Navy

Property Number: 77200710013

Status: Excess

Reasons: Extensive deterioration

10 Bldgs.

Naval Base

North Tipalao

Santa Rita GU

Landholding Agency: Navy

Property Number: 77200920035

Status: Unutilized

Directions: 802, 803, 804, 811, 812, 813, 814, 821, 822, 823

Reasons: Secured Area

5 Bldgs.

Naval Base

North Tipalao

Santa Rita GU

Landholding Agency: Navy

Property Number: 77200920036

Status: Unutilized

Directions: 809, 810, 819, 820, 824

Reasons: Secured Area

10 Bldgs.

Naval Base

North Tipalao

Santa Rita GU

Landholding Agency: Navy

Property Number: 77200920037

Status: Unutilized

Directions: 972, 974, 975, 982, 971, 973, 970, 976, 978, 980

Reasons: Secured Area

Bldgs. 59, 70, 71

Naval Base

Barrigada GU

Landholding Agency: Navy

Property Number: 77200920038

Status: Unutilized

Reasons: Secured Area, Extensive deterioration

13 Bldgs.

Naval Base, NCTS

Dededo GU

Landholding Agency: Navy

Property Number: 77200920039

Status: Unutilized

Directions: 174, 176, 271, 272, 273, 274, 275, 276, 277, 278, 279, 280, 491

Reasons: Secured Area

Bldg. 367 & Storage Bldg.

Naval Base

Main Base

Dededo GU

Landholding Agency: Navy

Property Number: 77200920040

Status: Unutilized

Reasons: Secured Area

Bldg. 575

Naval Base

Camp Covington

Dededo GU

Landholding Agency: Navy

Property Number: 77200920041

Status: Unutilized

Reasons: Secured Area

6 Bldgs.

Naval Base

Former FAA Compount

Dededo GU

Landholding Agency: Navy

Property Number: 77200920042

Status: Unutilized

Directions: 1880, 1881, 1882, 1883, 1884, 1885

Reasons: Extensive deterioration

Hawaii

Bldg. 1815

Hickam AFB

Hickam HI 96853

Landholding Agency: Air Force

Property Number: 18200730005

Status: Unutilized

Reasons: Extensive deterioration

Bldgs. 1028, 1029

Hickam AFB

Hickam HI 96853

Landholding Agency: Air Force

Property Number: 18200740006

Status: Unutilized

Reasons: Secured Area

Bldgs. 1710, 1711

Hickam AFB

Hickam HI 96853

Landholding Agency: Air Force

Property Number: 18200740007

Status: Unutilized

Reasons: Secured Area

Bldg. 1713

Hickam AFB

Hickam HI 96853

Landholding Agency: Air Force

Property Number: 18200830008

Status: Unutilized

Reasons: Extensive deterioration

Bldg. 1843

Hickam AFB

Hickam HI 96853

Landholding Agency: Air Force

Property Number: 18200920019

Status: Unutilized

Reasons: Extensive deterioration

Bldg. 346

Naval Station

Pearl Harbor HI 96860

Landholding Agency: Navy

Property Number: 77200610002

Status: Excess

Reasons: Extensive deterioration

Bank

Marine Corps Base

Kaneohe Bay HI 96863

Landholding Agency: Navy

Property Number: 77200830019

Status: Unutilized

Reasons: Secured Area

Bldgs. S378, 469

Naval Station

Ford Island

Pearl Harbor HI 96860

Landholding Agency: Navy

Property Number: 77200910005

Status: Underutilized

Reasons: Secured Area

Bldg. 3

Opana Reg. Relay Facility

Kahuku HI 96731

Landholding Agency: Navy

Property Number: 77200920014

Status: Excess

Reasons: Extensive deterioration, Secured Area

Bldg. 29

Naval Station

Pearl Harbor HI 96860

Landholding Agency: Navy

Property Number: 77200920043

Status: Excess

Reasons: Extensive deterioration, Secured Area

Idaho

Bldg. CPP-691

Idaho National Engineering Laboratory

Scoville Co: Butte ID 83415

Landholding Agency: Energy

Property Number: 41199610003

Status: Unutilized

Reasons: Secured Area

Bldg. TRA-669

Idaho National Engineering Laboratory

Scoville Co: Butte ID 83415

Landholding Agency: Energy

Property Number: 41199610013

Status: Unutilized

Reasons: Secured Area

Bldg. TRA-673

Idaho National Engineering Laboratory

Scoville Co: Butte ID 83415

Landholding Agency: Energy

Property Number: 41199610018

Status: Unutilized

Reasons: Secured Area

Bldg. PBF-620

Idaho National Engineering Laboratory

Scoville Co: Butte ID 83415

Landholding Agency: Energy

Property Number: 41199610019

Status: Unutilized

Reasons: Secured Area

Bldg. PBF-619

Idaho National Engineering Laboratory

Scoville Co: Butte ID 83415

Landholding Agency: Energy

Property Number: 41199610022

Status: Unutilized

Reasons: Secured Area

Bldg. TRA-641

Idaho National Engineering Laboratory

Scoville Co: Butte ID 83415

Landholding Agency: Energy

Property Number: 41199610034

Status: Unutilized

Reasons: Secured Area

Bldg. CF-606

Idaho National Engineering Laboratory

Scoville Co: Butte ID 83415

Landholding Agency: Energy

Property Number: 41199610037

Status: Unutilized

Reasons: Secured Area

Bldgs. CPP638, CPP642

Idaho Natl Eng Lab

Scoville Co: Butte ID 83415

Landholding Agency: Energy

Property Number: 41200410014

Status: Excess

Reasons: Secured Area

Bldg. CPP 743

Idaho Natl Eng Lab

Scoville Co: Butte ID 83-415

Landholding Agency: Energy

Property Number: 41200410020

Status: Excess

Reasons: Secured Area

Bldgs. CPP1647, 1653

Idaho Natl Eng Lab

Scoville Co: Butte ID 83415

Landholding Agency: Energy

Property Number: 41200410022

Status: Excess

Reasons: Secured Area

Bldg. CPP1677

Idaho Natl Eng Lab

Scoville Co: Butte ID 83415

Landholding Agency: Energy

Property Number: 41200410023

Status: Excess

Reasons: Secured Area

Bldg. 694

Idaho Natl Eng Lab

Scoville Co: Butte ID 83415

Landholding Agency: Energy

Property Number: 41200410034

Status: Excess

Reasons: Secured Area

Bldgs. CPP1604-CPP1608

Idaho National Eng Lab

Scoville Co: Butte ID 83415

Landholding Agency: Energy

Property Number: 41200430071

Status: Excess

Reasons: Secured Area

Bldgs. CPP1617-CPP1619

Idaho National Eng Lab

Scoville Co: Butte ID 83415

Landholding Agency: Energy

Property Number: 41200430072

Status: Excess

Reasons: Secured Area

6 Bldgs.

Idaho National Eng Lab

Scoville Co: Butte ID 83415

Landholding Agency: Energy

Property Number: 41200430073

Status: Excess

Directions: CPP1631, CPP1634, CPP1635, CPP1636, CPP1637, CPP1638

Reasons: Secured Area

5 Bldgs.

Idaho National Eng Lab

Scoville Co: Butte ID 83415

Landholding Agency: Energy

Property Number: 41200430074

Status: Excess

Directions: CPP1642, CPP1643, CPP1644, CPP1646, CPP1649

Reasons: Secured Area

3 Bldgs.

Idaho National Eng Lab

Scoville Co: Butte ID 83415

Landholding Agency: Energy

Property Number: 41200430075

Status: Excess

Directions: CPP1650, CPP1651, CPP1656

Reasons: Secured Area

5 Bldgs.

Idaho National Eng Lab

Scoville Co: Butte ID 83415

Landholding Agency: Energy

Property Number: 41200430076

Status: Excess

Directions: CPP1662, CPP1663, CPP1671, CPP1673, CPP1674

Reasons: Secured Area

5 Bldgs.

Idaho National Eng Lab

Scoville Co: Butte ID 83415

Landholding Agency: Energy

Property Number: 41200430077

Status: Excess

Directions: CPP1678, CPP1682, CPP1683, CPP1684, CPP1686

Reasons: Secured Area

5 Bldgs.

Idaho National Eng Lab

Scoville Co: Butte ID 83415

Landholding Agency: Energy

Property Number: 41200430078

Status: Excess

Directions: CPP1713, CPP1749, CPP1750, CPP1767, CPP1769

Reasons: Secured Area

5 Bldgs.

Idaho National Eng Lab

Scoville Co: Butte ID 83415

Landholding Agency: Energy

Property Number: 41200430079

Status: Excess

Directions: CPP1770, CPP1771, CPP1772, CPP1774, CPP1776

Reasons: Secured Area

4 Bldgs.

Idaho National Eng Lab

Scoville Co: Butte ID 83415

Landholding Agency: Energy

Property Number: 41200430081

Status: Excess

Directions: CPP1789, CPP1790, CPP1792, CPP1794

Reasons: Secured Area

Bldgs. CPP2701, CPP2706

Idaho National Eng Lab

Scoville Co: Butte ID 83415

Landholding Agency: Energy

Property Number: 41200430082

Status: Excess

Reasons: Secured Area

3 Bldgs.

Idaho National Eng Lab

Scoville Co: Butte ID 83415

Landholding Agency: Energy

Property Number: 41200430089

Status: Excess

Directions: TRA603, TRA604, TRA610

Reasons: Secured Area

Bldg. TAN611

Idaho National Eng Lab

Scoville Co: Butte ID 83415

Landholding Agency: Energy

Property Number: 41200430090

Status: Excess

Reasons: Secured Area

5 Bldgs.

Idaho National Eng Lab

Scoville Co: Butte ID 83415

Landholding Agency: Energy

Property Number: 41200430091

Status: Excess

Directions: TRA626, TRA635, TRA642, TRA648, TRA654

Reasons: Secured Area

Bldg. TAN655

Idaho National Eng Lab

Scoville Co: Butte ID 83415

Landholding Agency: Energy

Property Number: 41200430092

Status: Excess

Reasons: Secured Area

3 Bldgs.

Idaho National Eng Lab

Scoville Co: Butte ID 83415

Landholding Agency: Energy

Property Number: 41200430093

Status: Excess

Directions: TRA657, TRA661, TRA668

Reasons: Secured Area

Bldg. TAN711

Idaho National Eng Lab

Scoville Co: Butte ID 83415

Landholding Agency: Energy

Property Number: 41200430094

Status: Excess

Reasons: Secured Area

6 Bldgs.

Idaho National Eng Lab

Scoville Co: Butte ID 83415

Landholding Agency: Energy

Property Number: 41200430095

Status: Excess

Directions: CPP602-CPP606, CPP609

Reasons: Secured Area

5 Bldgs.

Idaho National Eng Lab

Scoville Co: Butte ID 83415

Landholding Agency: Energy

Property Number: 41200430096

Status: Excess

Directions: CPP611-CPP614, CPP616

Reasons: Secured Area

4 Bldgs.

Idaho National Eng Lab

Scoville Co: Butte ID 83415

Landholding Agency: Energy

Property Number: 41200430097

Status: Excess

Directions: CPP621, CPP626, CPP630, CPP639

Reasons: Secured Area

4 Bldgs.

Idaho National Eng Lab

Scoville Co: Butte ID 83415

Landholding Agency: Energy

Property Number: 41200430098

Status: Excess

Directions: CPP641, CPP644, CPP645, CPP649

Reasons: Secured Area

Bldgs. CPP651-CPP655

Idaho National Eng Lab

Scoville Co: Butte ID 83415

Landholding Agency: Energy

Property Number: 41200430099

Status: Excess

Reasons: Secured Area

Bldgs. CPP659-CPP663

Idaho National Eng Lab

Scoville Co: Butte ID 83415

Landholding Agency: Energy

Property Number: 41200440001

Status: Excess

Reasons: Secured Area

Bldgs. CPP666, CPP668

Idaho National Eng Lab

Scoville Co: Butte ID 83415

Landholding Agency: Energy

Property Number: 41200440002

Status: Excess

Reasons: Secured Area

1 Bldg.

Idaho National Eng Lab

Scoville Co: Butte ID 83415

Landholding Agency: Energy

Property Number: 41200440004

Status: Excess

Directions: CPP684

Reasons: Secured Area

5 Bldgs.

Idaho National Eng Lab

Scoville Co: Butte ID 83415

Landholding Agency: Energy

Property Number: 41200440005

Status: Excess

Directions: CPP692, CPP694, CPP697-CPP699

Reasons: Secured Area

3 Bldgs.

Idaho National Eng Lab

Scoville Co: Butte ID 83415

Landholding Agency: Energy

Property Number: 41200440006

Status: Excess

Directions: CPP701, CPP701A, CPP708

Reasons: Secured Area

Bldgs. 711, 719A

Idaho National Eng Lab

Scoville Co: Butte ID 83415

Landholding Agency: Energy

Property Number: 41200440007

Status: Excess

Reasons: Secured Area

4 Bldgs.

Idaho National Eng Lab

Scoville Co: Butte ID 83415

Landholding Agency: Energy

Property Number: 41200440008

Status: Excess

Directions: CPP724-CPP726, CPP728

Reasons: Secured Area

Bldg. CPP729/741

Idaho National Eng Lab

Scoville Co: Butte ID 83415

Landholding Agency: Energy

Property Number: 41200440012

Status: Excess

Reasons: Secured Area

Bldgs. CPP733, CPP736

Idaho National Eng Lab

Scoville Co: Butte ID 83415

Landholding Agency: Energy

Property Number: 41200440013

Status: Excess

Reasons: Secured Area

Bldgs. CPP740, CPP742

Idaho National Eng Lab

Scoville Co: Butte ID 83415

Landholding Agency: Energy

Property Number: 41200440014

Status: Excess

Reasons: Secured Area

Bldgs. CPP746, CPP748

Idaho National Eng Lab

Scoville Co: Butte ID 83415

Landholding Agency: Energy

Property Number: 41200440015

Status: Excess

Reasons: Secured Area

3 Bldgs.

Idaho National Eng Lab

CPP750, CPP751, CPP752

Scoville Co: Butte ID 83415

Landholding Agency: Energy

Property Number: 41200440016

Status: Excess

Reasons: Secured Area

3 Bldgs.

Idaho National Eng Lab

CPP753, CPP753A, CPP754

Scoville Co: Butte ID 83415

Landholding Agency: Energy

Property Number: 41200440017

Status: Excess

Reasons: Secured Area

Bldgs. CPP760, CPP763

Idaho National Eng Lab

Scoville Co: Butte ID 83415

Landholding Agency: Energy

Property Number: 41200440018

Status: Excess

Reasons: Secured Area

Bldgs. CPP764, CPP765

Idaho National Eng Lab

Scoville Co: Butte ID 83415

Landholding Agency: Energy

Property Number: 41200440019

Status: Excess

Reasons: Secured Area

Bldgs. CPP767, CPP768

Idaho National Eng Lab

Scoville Co: Butte ID 83415

Landholding Agency: Energy

Property Number: 41200440020

Status: Excess

Reasons: Secured Area

Bldgs. CPP791, CPP795

Idaho National Eng Lab

Scoville Co: Butte ID 83415

Landholding Agency: Energy

Property Number: 41200440021

Status: Excess

Reasons: Secured Area

3 Bldgs.

Idaho National Eng Lab

CPP796, CPP797, CPP799

Scoville Co: Butte ID 83415

Landholding Agency: Energy

Property Number: 41200440022

Status: Excess

Reasons: Secured Area

Bldgs. CPP701B, CPP719

Idaho National Eng Lab

Scoville Co: Butte ID 83415

Landholding Agency: Energy

Property Number: 41200440023

Status: Excess

Reasons: Secured Area

Bldgs. CPP720A, CPP720B

Idaho National Eng Lab

Scoville Co: Butte ID 83415

Landholding Agency: Energy

Property Number: 41200440024

Status: Excess

Reasons: Secured Area

Bldg. CPP1781

Idaho National Eng Lab

Scoville Co: Butte ID 83415

Landholding Agency: Energy

Property Number: 41200440025

Status: Excess

Reasons: Secured Area

2 Bldgs.

Idaho National Eng Lab

CPP0000VES-UTI-111, VES-UTI-112

Scoville Co: Butte ID 83415

Landholding Agency: Energy

Property Number: 41200440026

Status: Excess

Reasons: Secured Area

Bldgs. TAN704, TAN733

Idaho National Eng Lab

Scoville Co: Butte ID 83415

Landholding Agency: Energy

Property Number: 41200440028

Status: Excess

Reasons: Secured Area

Bldgs. TAN1611, TAN1614

Idaho National Eng Lab

Scoville Co: Butte ID 83415

Landholding Agency: Energy

Property Number: 41200440029

Status: Excess

Reasons: Secured Area

Bldg. CF633

Idaho Natl Laboratory

Scoville Co: Butte ID 83415

Landholding Agency: Energy

Property Number: 41200520005

Status: Excess

Reasons: Extensive deterioration

Bldgs. B23-602, B27-601

Idaho Natl Laboratory

Idaho Falls ID 83415

Landholding Agency: Energy

Property Number: 41200820003

Status: Unutilized

Reasons: Secured Area

Bldgs. CF-635, CF-650

Idaho Natl Laboratory

Idaho Falls ID 83415

Landholding Agency: Energy

Property Number: 41200820005

Status: Unutilized

Reasons: Secured Area, Within 2000 ft. of flammable or explosive material

Bldgs. CF-662, CF-692

Idaho Natl Laboratory

Idaho Falls ID 83415

Landholding Agency: Energy

Property Number: 41200820006

Status: Unutilized

Reasons: Secured Area, Extensive deterioration

Illinois

Bldgs. 306A, B, C, TR-5

Argonne National Lab

Argonne IL 60439

Landholding Agency: Energy

Property Number: 41200720017

Status: Excess

Reasons: Secured Area

Bldgs. 310, 330

Argonne National Lab

DuPage IL 60439

Landholding Agency: Energy

Property Number: 41200920007

Status: Excess

Reasons: Secured Area, Contamination

Louisiana

Barksdale Middle Marker

Bossier LA 71112

Landholding Agency: Air Force

Property Number: 18200730006

Status: Excess

Reasons: Extensive deterioration

Bldgs. 37, 89, 122

Naval Air Station

New Orleans LA 70143

Landholding Agency: Navy

Property Number: 77200810024

Status: Excess

Reasons: Secured Area, Extensive deterioration

Bldgs. 159, 418, 902

Naval Air Station

New Orleans LA 70143

Landholding Agency: Navy

Property Number: 77200810025

Status: Excess

Reasons: Extensive deterioration, Secured Area

Bldg. 11

Naval Support Activity

New Orleans LA 70142

Landholding Agency: Navy

Property Number: 77200810027

Status: Excess

Reasons: Extensive deterioration, Secured Area

6 Bldgs.

Naval Air Station

Joint Reserve Base

New Orleans LA 70143

Landholding Agency: Navy

Property Number: 77200920044

Status: Excess

Directions: 37, 89, 122, 159, 418, 902

Reasons: Secured Area, Within 2000 ft. of flammable or explosive material

Maine

Facilities 1, 2, 3, 4

OTH-B Site

Moscow ME 04920

Landholding Agency: Air Force

Property Number: 18200730007

Status: Unutilized

Reasons: Within 2000 ft. of flammable or explosive material

Maryland

Bldg. 2075

Naval Surface Warfare

Indian Head MD

Landholding Agency: Navy

Property Number: 77200630043

Status: Excess

Reasons: Extensive deterioration

9 Bldgs

National Naval Medical Ctr

Bethesda MD 20889

Landholding Agency: Navy

Property Number: 77200920028

Status: Unutilized

Directions: 17, 18, 21, 49, 69, 141, 146, 150, 174

Reasons: Extensive deterioration, Secured Area

5 Bldgs.

National Naval Medical Ctr

Bethesda MD

Landholding Agency: Navy

Property Number: 77200920030

Status: Unutilized

Directions: 23, 29, 139, 176, 219

Reasons: Secured Area

Massachusetts

Bldg. 5202

USCG Air Station

Bourne MA 02540

Landholding Agency: Coast Guard

Property Number: 88200810002

Status: Unutilized

Reasons: Extensive deterioration, Secured Area

3 Sheds

USCG Sector Southeastern

Falmouth MA 02543

Landholding Agency: Coast Guard

Property Number: 88200910001

Status: Unutilized

Reasons: Secured Area, Extensive deterioration

5 Bldgs.

USCG Air Station

3434, 3435, 3436, 5424, 5451

Bourne MA 02542

Landholding Agency: Coast Guard

Property Number: 88200920002

Status: Excess

Reasons: Extensive deterioration, Secured Area

Michigan

Admin. Bldg.

Station Saginaw River

Essexville Co: Bay MI 48732

Landholding Agency: Coast Guard

Property Number: 88200510001

Status: Unutilized

Reasons: Extensive deterioration, Secured Area

Bldg. 001

USCG Sector

Sault Ste Marie MI 49783

Landholding Agency: Coast Guard

Property Number: 88200920003

Status: Unutilized

Reasons: Secured Area

Bldg. 022

US Coast Guard Station

Marquette MI 49855

Landholding Agency: Coast Guard

Property Number: 88200920004

Status: Excess

Reasons: Secured Area

Mississippi

Bldg. 9

Construction Battalion Center

Gulfport MS

Landholding Agency: Navy

Property Number: 77200610039

Status: Unutilized

Reasons: Secured Area, Extensive deterioration

Bldgs. 22, 27, 41

Construction Battalion Center

Gulfport MS

Landholding Agency: Navy

Property Number: 77200610040

Status: Unutilized

Reasons: Extensive deterioration, Secured Area

Bldgs. 108, 181, 183

Construction Battalion Center

Gulfport MS

Landholding Agency: Navy

Property Number: 77200610041

Status: Unutilized

Reasons: Extensive deterioration, Secured Area

Bldg. 201

Construction Battalion Center

Gulfport MS

Landholding Agency: Navy

Property Number: 77200610042

Status: Unutilized

Reasons: Secured Area, Extensive deterioration

Bldgs. 270, 270A-1, 270A-2

Construction Battalion Center

Gulfport MS

Landholding Agency: Navy

Property Number: 77200610043

Status: Unutilized

Reasons: Secured Area, Extensive deterioration

Bldgs. 375, 420

Construction Battalion Center

Gulfport MS

Landholding Agency: Navy

Property Number: 77200610044

Status: Unutilized

Reasons: Secured Area, Extensive deterioration

Bldgs. 95, 96

Naval Air Station

Meridian MS 39309

Landholding Agency: Navy

Property Number: 77200720046

Status: Unutilized

Reasons: Within 2000 ft. of flammable or explosive material, Secured Area, Within airport runway clear zone

Bldg. 167

Naval Air Station

Meridian MS 39309

Landholding Agency: Navy

Property Number: 77200720047

Status: Unutilized

Reasons: Secured Area

Bldgs. 212, 228

Naval Air Station

Meridian MS 39309

Landholding Agency: Navy

Property Number: 77200720048

Status: Unutilized

Reasons: Secured Area

Bldgs. 266, 267

Naval Air Station

Meridian MS 39309

Landholding Agency: Navy

Property Number: 77200720049

Status: Unutilized

Reasons: Secured Area

Bldgs. 351, 445

Naval Air Station

Meridian MS 39309

Landholding Agency: Navy

Property Number: 77200720050

Status: Unutilized

Reasons: Secured Area

Bldgs. 182, 183

Naval Air Station

Meridian MS 39309

Landholding Agency: Navy

Property Number: 77200810014

Status: Unutilized

Reasons: Secured Area

Bldgs. 222, 230, 326

Naval Air Station

Meridian MS 39309

Landholding Agency: Navy

Property Number: 77200810015

Status: Unutilized

Reasons: Secured Area

Montana

Bldgs. 1600, 1601

Malmstrom AFB

Cascade MT 59402

Landholding Agency: Air Force

Property Number: 18200920020

Status: Unutilized

Reasons: Secured Area, Within 2000 ft. of flammable or explosive material, Extensive deterioration

Nevada

Bldg. 33400

Ely

Ely NV 89301

Landholding Agency: Air Force

Property Number: 18200820014

Status: Unutilized

Reasons: Secured Area, Extensive deterioration

28 Facilities

Nevada Test Site

Mercury Co: Nye NV 89023

Landholding Agency: Energy

Property Number: 41200310018

Status: Excess

Reasons: Other—contamination, Secured Area

31 Bldgs./Facilities

Nellis AFB

Tonopah Test Range

Tonopah Co: Nye NV 89049

Landholding Agency: Energy

Property Number: 41200330003

Status: Unutilized

Reasons: Secured Area

42 Bldgs.

Nellis Air Force Base

Tonopah Co: Nye NV 89049

Landholding Agency: Energy

Property Number: 41200410029

Status: Unutilized

Directions: 49-01, NM104, NM105, 03-35A-H, 03-35J-N, 03-36A-C, 03-36E-H, 03-36J-N, 03-36R, 03-37, 15036, 03-44A-D, 03-46, 03-47, 03-49, 03-88, 03-89, 03-90

Reasons: Secured Area

241 Bldgs.

Tonopah Test Range

Tonopah Co: Nye NV 89049

Landholding Agency: Energy

Property Number: 41200440036

Status: Excess

Reasons: Secured Area, Within 2000 ft. of flammable or explosive material

10 Bldgs.

Nevada Test Site

Mercury Co: Nye NV 89023

Landholding Agency: Energy

Property Number: 41200610003

Status: Excess

Reasons: Secured Area

3 Bldgs.

Nevada Test Site

23-790, 06-CP50, 26-2107

Mercury Co: Nye NV 89023

Landholding Agency: Navy

Property Number: 77200510025

Status: Excess

Reasons: Secured Area, Other—contamination

Units 501-521

Naval Air Station

Fallon NV

Landholding Agency: Navy

Property Number: 77200710017

Status: Excess

Reasons: Secured Area

New Hampshire

Bldg. 152

Pease Internatl Tradeport

Newington NH 03803

Landholding Agency: Air Force

Property Number: 18200920007

Status: Unutilized

Reasons: Secured Area, Within 2000 ft. of flammable or explosive material

Bldg. 16

Pease Internatl Tradeport

Newington NH 03803

Landholding Agency: Air Force

Property Number: 18200930006

Status: Excess

Reasons: Within 2000 ft. of flammable or explosive material

New Jersey

Bldgs. 105, 111, 266

Naval Air Eng. Station

Lakehurst NJ 08733

Landholding Agency: Navy

Property Number: 77200820001

Status: Unutilized

Reasons: Secured Area, Extensive deterioration

Bldgs. 464, 480

Naval Air Eng. Station

Lakehurst NJ 08733

Landholding Agency: Navy

Property Number: 77200820002

Status: Unutilized

Reasons: Extensive deterioration, Secured Area

Bldgs. 539, 560, 565

Naval Air Eng. Station

Lakehurst NJ 08733

Landholding Agency: Navy

Property Number: 77200820003

Status: Unutilized

Reasons: Extensive deterioration, Secured Area

Bldgs. 3N, 4N, 57

Naval Weapons Station

Colts Neck NJ 07722

Landholding Agency: Navy

Property Number: 77200930008

Status: Unutilized

Reasons: Secured Area

New Mexico

Bldg. 1016

Kirtland AFB

Bernalillo NM 87117

Landholding Agency: Air Force

Property Number: 18200730008

Status: Unutilized

Reasons: Extensive deterioration, Secured Area, Within 2000 ft. of flammable or explosive material

Bldgs. 40, 841

Holloman AFB

Otero NM 88330

Landholding Agency: Air Force

Property Number: 18200820016

Status: Underutilized

Reasons: Secured Area

Bldgs. 436, 437

Kirtland AFB

Bernalillo NM 87117

Landholding Agency: Air Force

Property Number: 18200820017

Status: Underutilized

Reasons: Within 2000 ft. of flammable or explosive material, Secured Area

6 Bldgs.

Cannon AFB

Curry NM 88102

Landholding Agency: Air Force

Property Number: 18200830009

Status: Underutilized

Directions: 1156, 1160, 1245, 1256, 1258, 1260

Reasons: Secured Area

Bldgs. 20612, 29071, 37505

Kirtland AFB

Bernalillo NM 87117

Landholding Agency: Air Force

Property Number: 18200830010

Status: Unutilized

Reasons: Secured Area

Bldgs. 88, 89

Holloman AFB

Otero NM 88330

Landholding Agency: Air Force

Property Number: 18200830020

Status: Unutilized

Reasons: Extensive deterioration, Within 2000 ft. of flammable or explosive material, Secured Area

Bldgs. 312, 322

Holloman AFB

Otero NM 88330

Landholding Agency: Air Force

Property Number: 18200830021

Status: Unutilized

Reasons: Secured Area

Bldg. 569

Holloman AFB

Otero NM 88330

Landholding Agency: Air Force

Property Number: 18200830022

Status: Unutilized

Reasons: Within 2000 ft. of flammable or explosive material, Secured Area

Bldgs. 807, 833

Holloman AFB

Otero NM 88330

Landholding Agency: Air Force

Property Number: 18200830023

Status: Unutilized

Reasons: Secured Area, Within 2000 ft. of flammable or explosive material

Bldg. 1245

Holloman AFB

Otero NM 88330

Landholding Agency: Air Force

Property Number: 18200830024

Status: Unutilized

Reasons: Secured Area

5 Bldgs.

Holloman AFB

Otero NM 88330

Landholding Agency: Air Force

Property Number: 18200840004

Status: Unutilized

Directions: 1201, 1202, 1203, 1205, 1207

Reasons: Secured Area

5 Bldgs.

Holloman AFB

Otero NM 88330

Landholding Agency: Air Force

Property Number: 18200920008

Status: Unutilized

Directions: 71, 1187, 1200, 1284, 1285

Reasons: Secured Area

6 Bldgs.

Holloman AFB

Holloman AFB NM

Landholding Agency: Air Force

Property Number: 18200930007

Status: Unutilized

Directions: 920, 921, 922, 923, 924, 930

Reasons: Secured Area

Bldgs. 1113, 1127

Holloman AFB

Holloman AFB NM

Landholding Agency: Air Force

Property Number: 18200930008

Status: Unutilized

Reasons: Secured Area

Bldg. 30143

Kirtland AFB

Bernalillo NM 87117

Landholding Agency: Air Force

Property Number: 18200930009

Status: Excess

Reasons: Within 2000 ft. of flammable or explosive material, Extensive deterioration, Secured Area

Bldgs. 9252, 9268

Kirtland Air Force Base

Albuquerque Co: Bernalillo NM 87185

Landholding Agency: Energy

Property Number: 41199430002

Status: Unutilized

Reasons: Extensive deterioration

Tech Area II

Kirtland Air Force Base

Albuquerque Co: Bernalillo NM 87105

Landholding Agency: Energy

Property Number: 41199630004

Status: Unutilized

Reasons: Secured Area, Within 2000 ft. of flammable or explosive material, Extensive deterioration

Bldg. 26, TA-33

Los Alamos National Laboratory

Los Alamos NM 87545

Landholding Agency: Energy

Property Number: 41199810004

Status: Unutilized

Reasons: Secured Area, Extensive deterioration

Bldg. 2, TA-21

Los Alamos National Laboratory

Los Alamos NM 87545

Landholding Agency: Energy

Property Number: 41199810008

Status: Underutilized

Reasons: Secured Area

Bldg. 5, TA-21

Los Alamos National Laboratory

Los Alamos NM 87545

Landholding Agency: Energy

Property Number: 41199810011

Status: Unutilized

Reasons: Secured Area

Bldg. 116, TA-21

Los Alamos National Laboratory

Los Alamos NM 87545

Landholding Agency: Energy

Property Number: 41199810013

Status: Unutilized

Reasons: Secured Area

Bldg. 286, TA-21

Los Alamos National Laboratory

Los Alamos NM 87545

Landholding Agency: Energy

Property Number: 41199810016

Status: Unutilized

Reasons: Secured Area

Bldg. 516, TA-16

Los Alamos National Laboratory

Los Alamos NM 87545

Landholding Agency: Energy

Property Number: 41199810021

Status: Unutilized

Reasons: Secured Area, Extensive deterioration, Within 2000 ft. of flammable or explosive material

Bldg. 517, TA-16

Los Alamos National Laboratory

Los Alamos NM 87545

Landholding Agency: Energy

Property Number: 41199810022

Status: Unutilized

Reasons: Within 2000 ft. of flammable or explosive material, Secured Area, Extensive deterioration

Bldg. 31

Los Alamos National Lab

Los Alamos NM 87545

Landholding Agency: Energy

Property Number: 41199930003

Status: Unutilized

Reasons: Extensive deterioration, Secured Area

Bldg. 38, TA-14

Los Alamos National Lab

Los Alamos NM 87545

Landholding Agency: Energy

Property Number: 41199940004

Status: Unutilized

Reasons: Extensive deterioration, Secured Area

Bldg. 9, TA-15

Los Alamos National Lab

Los Alamos NM 87545

Landholding Agency: Energy

Property Number: 41199940006

Status: Unutilized

Reasons: Secured Area

Bldg. 141, TA-15

Los Alamos National Lab

Los Alamos NM 87545

Landholding Agency: Energy

Property Number: 41199940008

Status: Unutilized

Reasons: Secured Area

Bldg. 44, TA-15

Los Alamos National Lab

Los Alamos NM 87545

Landholding Agency: Energy

Property Number: 41199940009

Status: Unutilized

Reasons: Secured Area

Bldg. 2, TA-18

Los Alamos National Lab

Los Alamos NM 87545

Landholding Agency: Energy

Property Number: 41199940010

Status: Unutilized

Reasons: Secured Area, Extensive deterioration

Bldg. 5, TA-18

Los Alamos National Lab

Los Alamos NM 87545

Landholding Agency: Energy

Property Number: 41199940011

Status: Unutilized

Reasons: Secured Area, Extensive deterioration

Bldg. 186, TA-18

Los Alamos National Lab

Los Alamos NM 87545

Landholding Agency: Energy

Property Number: 41199940012

Status: Unutilized

Reasons: Extensive deterioration, Secured Area

Bldg. 188, TA-18

Los Alamos National Lab

Los Alamos NM 87545

Landholding Agency: Energy

Property Number: 41199940013

Status: Unutilized

Reasons: Extensive deterioration, Secured Area

Bldg. 44, TA-36

Los Alamos National Lab

Los Alamos NM 87545

Landholding Agency: Energy

Property Number: 41199940015

Status: Unutilized

Reasons: Extensive deterioration, Secured Area

Bldg. 45, TA-36

Los Alamos National Lab

Los Alamos NM 87545

Landholding Agency: Energy

Property Number: 41199940016

Status: Unutilized

Reasons: Extensive deterioration, Secured Area

Bldg. 258, TA-46

Los Alamos National Lab

Los Alamos NM 87545

Landholding Agency: Energy

Property Number: 41199940019

Status: Unutilized

Reasons: Extensive deterioration, Secured Area

TA-3, Bldg. 208

Los Alamos National Lab

Los Alamos NM 87545

Landholding Agency: Energy

Property Number: 41200010010

Status: Unutilized

Reasons: Extensive deterioration, Secured Area

TA-14, Bldg. 5

Los Alamos National Lab

Los Alamos NM 87545

Landholding Agency: Energy

Property Number: 41200010019

Status: Unutilized

Reasons: Secured Area

TA-21, Bldg. 150

Los Alamos National Lab

Los Alamos NM 87545

Landholding Agency: Energy

Property Number: 41200010020

Status: Unutilized

Reasons: Secured Area

Bldg. 149, TA-21

Los Alamos National Lab

Los Alamos NM 87545

Landholding Agency: Energy

Property Number: 41200010024

Status: Unutilized

Reasons: Secured Area

Bldg. 312, TA-21

Los Alamos National Lab

Los Alamos NM 87545

Landholding Agency: Energy

Property Number: 41200010025

Status: Unutilized

Reasons: Secured Area

Bldg. 313, TA-21

Los Alamos National Lab

Los Alamos NM 87545

Landholding Agency: Energy

Property Number: 41200010026

Status: Unutilized

Reasons: Secured Area

Bldg. 314, TA-21

Los Alamos National Lab

Los Alamos NM 87545

Landholding Agency: Energy

Property Number: 41200010027

Status: Unutilized

Reasons: Secured Area

Bldg. 315, TA-21

Los Alamos National Lab

Los Alamos NM 87545

Landholding Agency: Energy

Property Number: 41200010028

Status: Unutilized

Reasons: Secured Area

Bldg. 1, TA-8

Los Alamos National Lab

Los Alamos NM 87545

Landholding Agency: Energy

Property Number: 41200010029

Status: Unutilized

Reasons: Secured Area

Bldg. 2, TA-8

Los Alamos National Lab

Los Alamos NM 87545

Landholding Agency: Energy

Property Number: 41200010030

Status: Unutilized

Reasons: Extensive deterioration, Secured Area

Bldg. 3, TA-8

Los Alamos National Lab

Los Alamos NM 87545

Landholding Agency: Energy

Property Number: 41200020001

Status: Unutilized

Reasons: Extensive deterioration, Secured Area

Bldg. 51, TA-9

Los Alamos National Lab

Los Alamos NM 87545

Landholding Agency: Energy

Property Number: 41200020002

Status: Unutilized

Reasons: Secured Area

Bldg. 30, TA-14

Los Alamos National Lab

Los Alamos NM 87545

Landholding Agency: Energy

Property Number: 41200020003

Status: Unutilized

Reasons: Secured Area

Bldg. 16, TA-3

Los Alamos National Lab

Los Alamos NM 87545

Landholding Agency: Energy

Property Number: 41200020009

Status: Unutilized

Reasons: Secured Area

Bldg. 48, TA-55

Los Alamos National Lab

Los Alamos NM 87545

Landholding Agency: Energy

Property Number: 41200020017

Status: Unutilized

Reasons: Secured Area

Bldg. 125, TA-55

Los Alamos National Lab

Los Alamos NM 87545

Landholding Agency: Energy

Property Number: 41200020018

Status: Unutilized

Reasons: Secured Area

Bldg. 162, TA-55

Los Alamos National Lab

Los Alamos NM 87545

Landholding Agency: Energy

Property Number: 41200020019

Status: Unutilized

Reasons: Secured Area

Bldg. 22, TA-33

Los Alamos National Lab

Los Alamos NM 87545

Landholding Agency: Energy

Property Number: 41200020022

Status: Unutilized

Reasons: Extensive deterioration, Secured Area

Bldg. 23, TA-49

Los Alamos National Lab

Los Alamos NM 87545

Landholding Agency: Energy

Property Number: 41200020023

Status: Unutilized

Reasons: Secured Area

Bldg. 37, TA-53

Los Alamos National Lab

Los Alamos NM 87545

Landholding Agency: Energy

Property Number: 41200020024

Status: Unutilized

Reasons: Secured Area

Bldg. 121, TA-49

Los Alamos National Lab

Los Alamos NM 87545

Landholding Agency: Energy

Property Number: 41200020025

Status: Unutilized

Reasons: Secured Area

Bldg. B117

Kirtland Operations

Albuquerque Co: Bernalillo NM 87117

Landholding Agency: Energy

41200220032

Status: Excess

Reasons: Extensive deterioration

Bldg. B118

Kirtland Operations

Albuquerque Co: Bernalillo NM 87117

Landholding Agency: Energy

41200220033

Status: Excess

Reasons: Extensive deterioration

Bldg. B119

Kirtland Operations

Albuquerque Co: Bernalillo NM 87117

Landholding Agency: Energy

41200220034

Status: Excess

Reasons: Extensive deterioration

Bldg. 2, TA-11

Los Alamos National Lab

Los Alamos NM 87545

Landholding Agency: Energy

Property Number: 41200240004

Status: Unutilized

Reasons: Secured Area

Bldg. 4, TA-41

Los Alamos National Lab

Los Alamos NM 87545

Landholding Agency: Energy

Property Number: 41200240005

Status: Unutilized

Reasons: Secured Area

Bldg. 116, TA-21

Los Alamos National Lab

Los Alamos NM 87545

Landholding Agency: Energy

Property Number: 41200310003

Status: Unutilized

Reasons: Secured Area

Bldgs. 1, 2, 3, 4, 5, TA-28

Los Alamos National Lab

Los Alamos NM 87545

Landholding Agency: Energy

Property Number: 41200310004

Status: Unutilized

Reasons: Secured Area

Bldgs. 447, 1483

Los Alamos Natl Laboratory

Los Alamos NM

Landholding Agency: Energy

Property Number: 41200410002

Status: Excess

Reasons: Extensive deterioration, Secured Area

Bldg. 99650

Sandia National Laboratory

Albuquerque Co: Bernalillo NM 87185

Landholding Agency: Energy

Property Number: 41200510004

Status: Unutilized

Reasons: Secured Area

Bldgs. 807, 6017 CAMU2&CAMU3

Sandia Natl Laboratories

Albuquerque NM 87185

Landholding Agency: Energy

Property Number: 41200730001

Status: Unutilized

Reasons: Secured Area

Bldg. 6502

Sandia National Lab

Albuquerque NM 87185

Landholding Agency: Energy

Property Number: 41200810002

Status: Unutilized

Reasons: Extensive deterioration, Secured Area

Bldg. 6596

Sandia National Labs

Albuquerque NM 87185

Landholding Agency: Energy

Property Number: 41200920001

Status: Unutilized

Reasons: Secured Area, Extensive deterioration

9 Bldgs.

Los Alamos National Lab

Los Alamos NM

Landholding Agency: Energy

Property Number: 41200920006

Status: Excess

Directions: 08-0026, 08-0030, 08-0065, 16-0193, 16-0242, 16-0244, 16-0897, 16-1489, 55-0107

Reasons: Secured Area

2 Bldgs.

Los Alamos National Lab

18-0257, 18-0258

Los Alamos NM 87545

Landholding Agency: Energy

Property Number: 41200920008

Status: Excess

Reasons: Secured Area, Extensive deterioration

9 Bldgs.

Los Alamos National Lab

Los Alamos NM 87545

Landholding Agency: Energy

Property Number: 41200920009

Status: Excess

Directions: 53-0401, 53-0403, 53-0409, 53-0456, 53-0514, 53-0525, 53-0535, 53-0544, 53-0675

Reasons: Secured Area, Extensive deterioration

6 Bldgs.

Los Alamos National Lab

Los Alamos NM 87545

Landholding Agency: Energy

Property Number: 41200920010

Status: Excess

Directions: 54-0117, 54-0185, 54-210, 54-211, 54-221, 54-221, 60-0282

Reasons: Secured Area, Extensive deterioration

6 Bldgs.

Los Alamos National Lab

Los Alamos NM 87545

Landholding Agency: Energy

Property Number: 41200920011

Status: Excess

Directions: 21-0155, 21-0209, 21-0213, 21-0227, 21-0229, 21-0257

Reasons: Extensive deterioration, Secured Area

8 Bldgs.

Los Alamos National Lab

Los Alamos NM 87545

Landholding Agency: Energy

Property Number: 41200920012

Status: Excess

Directions: 54-0226, 63-0001, 63-0002, 63-0003, 63-0004, 63-0077, 63-0078, 63-0093

Reasons: Extensive deterioration, Secured Area

7 Bldgs.

Los Alamos National Lab

Los Alamos NM

Landholding Agency: Energy

Property Number: 41200930001

Status: Unutilized

Directions: 16-0421, 18-0005, 18-0026, 18-0129, 18-0141, 18-0147, 18-0189

Reasons: Secured Area, Extensive deterioration

7 Bldgs.

Los Alamos National Lab

Los Alamos NM

Landholding Agency: Energy

Property Number: 41200930002

Status: Unutilized

Directions: 52-0035, 52-0036, 52-0105, 52-0123, 60-0045, 69-0002, 69-0005

Reasons: Extensive deterioration, Secured Area

Tract 01-108

Carlsbad Caverns Natl Park

Carlsbad NM 88220

Landholding Agency: Interior

Property Number: 61200930003

Status: Excess

Reasons: Within 2000 ft. of flammable or explosive material

New York

Bldg. 0096

Brookhaven National Lab

Upton NY 11973

Landholding Agency: Energy

Property Number: 41200730004

Status: Unutilized

Reasons: Extensive deterioration Secured Area

Bldg. 913T

Brookhaven Natl Laboratory

Upton NY 11973

Landholding Agency: Energy

Property Number: 41200830001

Status: Unutilized

Reasons: Within 2000 ft. of flammable or explosive material, Secured Area, Extensive deterioration

Bldgs. 680B, 680C

Brookhaven Natl Lab

Upton NY 11973

Landholding Agency: Energy

Property Number: 41200920002

Status: Excess

Reasons: Within 2000 ft. of flammable or explosive material, Extensive deterioration, Secured Area

Bldg. 85

Tract 01-109

Brooklyn NY 11234

Landholding Agency: Interior

Property Number: 61200930004

Status: Excess

Reasons: Extensive deterioration

Bldg. 13

USCG Staten Island

Suffolk NY 10305

Landholding Agency: Coast Guard

Property Number: 88200910002

Status: Excess

Reasons: Extensive deterioration Secured Area

Boat House

USCG Station Eaton's Neck

Northport NY 11768

Landholding Agency: Coast Guard

Property Number: 88200920005

Status: Unutilized

Reasons: Secured Area, Extensive deterioration

North Carolina

5 Bldgs.

Natural Park

Wilkesboro NC 28697

Landholding Agency: COE

Property Number: 31200930012

Status: Unutilized

Directions: WC-A01, WC-AC01, WC-AW01, WC-FR01, WC-FC01

Reasons: Extensive deterioration

3 Bldgs.

Natural Park

Wilkesboro NC 28697

Landholding Agency: COE

Property Number: 31200930013

Status: Unutilized

Directions: BM-W01, BR-R02, RM-M06

Reasons: Extensive deterioration

Bldg. 82

Marine Corps Air Station

Cherry Point Co: Craven NC 28533

Landholding Agency: Navy

Property Number: 77200510009

Status: Underutilized

Reasons: Secured Area

Bldg. 4314

Marine Corps Air Station

Cherry Point Co: Craven NC 28533

Landholding Agency: Navy

Property Number: 77200510010

Status: Underutilized

Reasons: Secured Area

Bldg. 124

Marine Corps Air Station

Cherry Point Co: Craven NC 28533

Landholding Agency: Navy

Property Number: 77200510023

Status: Underutilized

Reasons: Secured Area

Bldgs. 73, 95, 1018

Marine Corps Air Station

Cherry Point NC

Landholding Agency: Navy

Property Number: 77200620003

Status: Unutilized

Reasons: Secured Area

Bldg. 499

Marine Corps Air Station

Cherry Point NC

Landholding Agency: Navy

Property Number: 77200620038

Status: Unutilized

Reasons: Secured Area

Bldgs. 3177, 3885

Marine Corps Air Station

Cherry Point NC

Landholding Agency: Navy

Property Number: 77200620039

Status: Unutilized

Reasons: Secured Area

Bldg. 4473

Marine Corps Air Station

Cherry Point NC

Landholding Agency: Navy

Property Number: 77200620040

Status: Unutilized

Reasons: Secured Area

Bldg. 4523

Marine Corps Air Station

Cherry Point NC

Landholding Agency: Navy

Property Number: 77200620041

Status: Unutilized

Reasons: Secured Area

RPFN 0S1

Group Cape Hatteras

Buxton Co: Dare NC 27902

Landholding Agency: Coast Guard

Property Number: 88200540001

Status: Unutilized

Reasons: Extensive deterioration, Secured Area

RPFN 053

Sector N.C.

Atlantic Beach Co: Carteret NC 28512

Landholding Agency: Coast Guard

Property Number: 88200540002

Status: Unutilized

Reasons: Extensive deterioration, Secured Area

Equip. Bldg.

Coast Guard Station

11101 Station St.

Emerald Isle NC

Landholding Agency: Coast Guard

Property Number: 88200630001

Status: Unutilized

Reasons: Secured Area

Sewage Treatment Facility

USCG Cape Hatteras

Buxton NC 27902

Landholding Agency: Coast Guard

Property Number: 88200920006

Status: Unutilized

Reasons: Secured Area

North Dakota

Bldgs. 1612, 1741

Grand Forks AFB

Grand Forks ND 58205

Landholding Agency: Air Force

Property Number: 18200720023

Status: Unutilized

Reasons: Secured Area, Within 2000 ft. of flammable or explosive material

Ohio

Naval Reserve Center

Cleveland OH 44114

Landholding Agency: Coast Guard

Property Number: 88200740002

Status: Unutilized

Reasons: Within airport runway clear zone, Within 2000 ft. of flammable or explosive material, Secured Area

Oregon

Bldg. 1001

ANG Base

Portland OR 97218

Landholding Agency: Air Force

Property Number: 18200820018

Status: Underutilized

Reasons: Within 2000 ft. of flammable or explosive material, Secured Area

Paint Locker

USCG Elect. Sup. Detmt.

Coos Bay OR

Landholding Agency: Coast Guard

Property Number: 88200920007

Status: Unutilized

Reasons: Secured Area

Pennsylvania

Z-Bldg.

Bettis Atomic Power Lab

West Mifflin Co: Allegheny PA 15122-0109

Landholding Agency: Energy

Property Number: 41199720002

Status: Excess

Reasons: Extensive deterioration

Bldgs. 13, 90, 93, 97

Naval Support Activity

Philadelphia PA 19111

Landholding Agency: Navy

Property Number: 77200820012

Status: Excess

Reasons: Secured Area, Extensive deterioration

Bldgs. 431, 483

Naval Support Activity

Philadelphia PA 19111

Landholding Agency: Navy

Property Number: 77200820013

Status: Excess

Reasons: Extensive deterioration, Within 2000 ft. of flammable or explosive material

Bldgs. 530, 534, 567, 585

Naval Support Activity

Philadelphia PA 19111

Landholding Agency: Navy

Property Number: 77200820014

Status: Excess

Reasons: Extensive deterioration, Within 2000 ft. of flammable or explosive material

Bldgs. 618, 743

Naval Support Activity

Philadelphia PA 19111

Landholding Agency: Navy

Property Number: 77200820015

Status: Excess

Reasons: Extensive deterioration

Bldg. 37

Naval Support Activity

Philadelphia PA

Landholding Agency: Navy

Property Number: 77200930009

Status: Excess

Reasons: Secured Area

Bldgs. 619, 636, 662, 947

Naval Business Center

Philadelphia PA 19112

Landholding Agency: Navy

Property Number: 77200930010

Status: Excess

Reasons: Within 2000 ft. of flammable or explosive material

Rhode Island

Bldg. 305CP

Naval Station

Newport RI 02841

Landholding Agency: Navy

Property Number: 77200820004

Status: Excess

Reasons: Extensive deterioration, Secured Area

Bldg. 1A-CC

Naval Station

Newport RI 02841

Landholding Agency: Navy

Property Number: 77200820022

Status: Excess

Reasons: Secured Area

Bldg. 164

Naval Station

Newport RI 02841

Landholding Agency: Navy

Property Number: 77200820036

Status: Excess

Reasons: Secured Area, Within 2000 ft. of flammable or explosive material, Floodway

Bldgs. 348, 85CHI

Naval Station

Newport RI

Landholding Agency: Navy

Property Number: 77200820043

Status: Unutilized

Reasons: Secured Area

Facility 670

Naval Station

Harbor Island

Newport RI 02841

Landholding Agency: Navy

Property Number: 77200820044

Status: Excess

Reasons: Extensive deterioration, Secured Area

South Carolina

Bldgs. 19, 20, 23

Shaw AFB

Sumter SC 29152

Landholding Agency: Air Force

Property Number: 18200730009

Status: Underutilized

Reasons: Secured Area

Bldgs. 27, 28, 29

Shaw AFB

Sumter SC 29152

Landholding Agency: Air Force

Property Number: 18200730010

Status: Underutilized

Reasons: Secured Area

Bldgs. 30, 39

Shaw AFB

Sumter SC 29152

Landholding Agency: Air Force

Property Number: 18200730011

Status: Underutilized

Reasons: Secured Area

8 Bldgs.

Shaw AFB

Sumter SC 29152

Landholding Agency: Air Force

Property Number: 18200920021

Status: Unutilized

Directions: B14, B22, B31, B116, B218, B232, B343, B3403

Reasons: Secured Area

Bldg. B1626

Shaw AFB

Sumter SC 29152

Landholding Agency: Air Force

Property Number: 18200930010

Status: Unutilized

Reasons: Secured Area, Within 2000 ft. of flammable or explosive material

Bldg. 701-6G

Jackson Barricade

Jackson SC

Landholding Agency: Energy

Property Number: 41200420010

Status: Unutilized

Reasons: Secured Area

Bldg. 211-000F

Nuclear Materials Processing Facility

Aiken SC 29802

Landholding Agency: Energy

Property Number: 41200420011

Status: Excess

Reasons: Secured Area

Bldg. 221-001F

Nuclear Materials Processing Facility

Aiken SC 29802

Landholding Agency: Energy

Property Number: 41200420015

Status: Excess

Reasons: Secured Area

Bldg. 190-K

Savannah River Operations

Aiken SC 29802

Landholding Agency: Energy

Property Number: 41200420030

Status: Unutilized

Reasons: Secured Area

Bldg. 710-015N

Savannah River Operations

Aiken SC 29802

Landholding Agency: Energy

Property Number: 41200430002

Status: Excess

Reasons: Secured Area

Bldg. 713-000N

Savannah River Operations

Aiken SC 29802

Landholding Agency: Energy

Property Number: 41200430003

Status: Excess

Reasons: Secured Area

Bldgs. 80-9G, 10G

Savannah River Operations

Aiken SC 29802

Landholding Agency: Energy

Property Number: 41200430006

Status: Excess

Reasons: Secured Area

Bldgs. 105-P, 105-R

Savannah River Operations

Aiken SC 29802

Landholding Agency: Energy

Property Number: 41200430007

Status: Excess

Reasons: Secured Area

Bldg. 183-003L

Savannah River Operations

Aiken SC 29802

Landholding Agency: Energy

Property Number: 41200430009

Status: Excess

Reasons: Secured Area

Bldg. 221-016F

Savannah River Operations

Aiken SC 29802

Landholding Agency: Energy

Property Number: 41200430014

Status: Excess

Reasons: Secured Area

Bldgs. 221-053F, 054F

Savannah River Operations

Aiken SC 29802

Landholding Agency: Energy

Property Number: 41200430016

Status: Excess

Reasons: Secured Area

Bldgs. 252-003F, 005F

Savannah River Operations

Aiken SC 29802

Landholding Agency: Energy

Property Number: 41200430017

Status: Excess

Reasons: Secured Area

Bldg. 315-M

Savannah River Operations

Aiken SC 29802

Landholding Agency: Energy

Property Number: 41200430030

Status: Excess

Reasons: Secured Area

Bldg. 716-002A

Savannah River Operations

Aiken SC 29802

Landholding Agency: Energy

Property Number: 41200430040

Status: Excess

Reasons: Secured Area

Bldgs. 221-21F, 22F

Savannah River Operations

Aiken SC 29802

Landholding Agency: Energy

Property Number: 41200430042

Status: Excess

Reasons: Secured Area

Bldg. 221-033F

Savannah River Operations

Aiken SC 29802

Landholding Agency: Energy

Property Number: 41200430043

Status: Excess

Reasons: Secured Area

Bldg. 254-007F

Savannah River Operations

Aiken SC 29802

Landholding Agency: Energy

Property Number: 41200430044

Status: Excess

Reasons: Secured Area

Bldg. 281-001F

Savannah River Operations

Aiken SC 29802

Landholding Agency: Energy

Property Number: 41200430045

Status: Excess

Reasons: Secured Area

Bldg. 281-004F

Savannah River Operations

Aiken SC 29802

Landholding Agency: Energy

Property Number: 41200430046

Status: Excess

Reasons: Secured Area

Bldg. 281-006F

Savannah River Operations

Aiken SC 29802

Landholding Agency: Energy

Property Number: 41200430047

Status: Excess

Reasons: Secured Area

Bldg. 703-045A

Savannah River Operations

Aiken SC 29802

Landholding Agency: Energy

Property Number: 41200430050

Status: Excess

Reasons: Secured Area

Bldg. 703-071A

Savannah River Operations

Aiken SC 29802

Landholding Agency: Energy

Property Number: 41200430051

Status: Excess

Reasons: Secured Area

Bldg. 754-008A

Savannah River Operations

Aiken SC 29802

Landholding Agency: Energy

Property Number: 41200430058

Status: Excess

Reasons: Secured Area

Bldg. 186-R

Savannah River Site

Aiken SC

Landholding Agency: Energy

Property Number: 41200430063

Status: Unutilized

Reasons: Secured Area

4 Bldgs.

Savannah River Site

#281-2F, 281-5F, 285-F, 285-5F

Aiken SC

Landholding Agency: Energy

Property Number: 41200430066

Status: Unutilized

Reasons: Secured Area

Bldg. 701-000M

Savannah River Site

Aiken SC 29802

Landholding Agency: Energy

Property Number: 41200430084

Status: Unutilized

Reasons: Secured Area

Bldg. 690-000N

Savannah River Site

Aiken SC 29802

Landholding Agency: Energy

Property Number: 41200440032

Status: Underutilized

Reasons: Secured Area

Facility 701-5G

Savannah River Site

New Ellenton SC

Landholding Agency: Energy

Property Number: 41200530003

Status: Unutilized

Reasons: Extensive deterioration

Bldg. 714-000A

Savannah River Site

Aiken SC

Landholding Agency: Energy

Property Number: 41200620014

Status: Underutilized

Reasons: Secured Area

Bldg. 777-018A

Savannah River Site

Aiken SC 29802

Landholding Agency: Energy

Property Number: 41200620022

Status: Excess

Reasons: Secured Area

Bldgs. 108-1P, 108-2P

Savannah River Site

Aiken SC 29802

Landholding Agency: Energy

Property Number: 41200630007

Status: Unutilized

Reasons: Secured Area

Bldg. 701-001P

Savannah River Site

Aiken SC 29802

Landholding Agency: Energy

Property Number: 41200640002

Status: Unutilized

Reasons: Secured Area

Bldgs. 151-1P, 151-2P

Savannah River site

Aiken SC 29802

Landholding Agency: Energy

Property Number: 41200640004

Status: Unutilized

Reasons: Secured Area

Bldg. 191-P

Savannah River Site

Aiken SC 29802

Landholding Agency: Energy

Property Number: 41200640005

Status: Unutilized

Reasons: Secured Area

Bldg. 710-P

Savannah River Site

Aiken SC 29802

Landholding Agency: Energy

Property Number: 41200640006

Status: Unutilized

Reasons: Secured Area

Bldg. 614-63G

Savannah River Site

Aiken SC 29802

Landholding Agency: Energy

Property Number: 41200710006

Status: Unutilized

Reasons: Secured Area

Bldgs. 701-2G, -905-117G

Savannah River Site

Aiken SC 29802

Landholding Agency: Energy

Property Number: 41200710007

Status: Unutilized

Reasons: Secured Area

Bldgs. 108-1R, 108-2R

Savannah River Site

Aiken SC 29802

Landholding Agency: Energy

Property Number: 41200710010

Status: Unutilized

Reasons: Secured Area

Bldgs. 717-003S, 717-010S

Savannah River Site

Aiken SC 29802

Landholding Agency: Energy

Property Number: 41200710011

Status: Unutilized

Reasons: Secured Area

Facility 151-1R

Savannah River Site

Aiken SC 29802

Landholding Agency: Energy

Property Number: 41200810001

Status: Underutilized

Reasons: Secured Area

Bldgs. 1000 thru 1021

Naval Weapons Station

Goose Creek Co: Berkeley SC 29445

Landholding Agency: Navy

Property Number: 77200440018

Status: Unutilized

Reasons: Secured Area

Bldg. 102

Marine Corps Recruit Depot

Parris Island Co: Beaufort SC 29905

Landholding Agency: Navy

Property Number: 77200530017

Status: Unutilized

Reasons: Floodway, Extensive deterioration, Secured Area

21 Bldgs.

Naval Weapons Station

Goose Creek Co: Berkely SC 29445

Landholding Agency: Navy

Property Number: 77200620034

Status: Unutilized

Directions: 4, 167C, 174, 180, 350, 383, 400, 410, 769, 790, 823, 824, 904, 930, 930A, 953, 953A, 971, 975, 2305, 3526

Reasons: Secured Area, Within 2000 ft. of flammable or explosive material

Bldg. 1148

Naval Weapons Station

Goose Creek Co: Berkeley SC 29445

Landholding Agency: Navy

Property Number: 77200630044

Status: Excess

Reasons: Extensive deterioration

Bldg. 200

Marine Corps Recruit Depot

Parris Island SC 29905

Landholding Agency: Navy

Property Number: 77200720018

Status: Unutilized

Reasons: Floodway, Secured Area

Bldgs. 908, 1ATX211-1ATX220

Naval Weapons Station

Goose Creek SC 29445

Landholding Agency: Navy

Property Number: 77200810029

Status: Unutilized

Reasons: Secured Area, Within 2000 ft. of flammable or explosive material

Bldgs. 40, 48, 856

Naval Weapons Station

Goose Creek SC 29445

Landholding Agency: Navy

Property Number: 77200810030

Status: Unutilized

Reasons: Secured Area, Within 2000 ft. of flammable or explosive material

Bldgs. 934, 2333

Naval Weapons Station

Goose Creek SC 29445

Landholding Agency: Navy

Property Number: 77200810031

Status: Unutilized

Reasons: Within 2000 ft. of flammable or explosive material, Secured Area

South Dakota

Bldg. 2306

Ellsworth AFB

Meade SD 57706

Landholding Agency: Air Force

Property Number: 18200740008

Status: Underutilized

Reasons: Secured Area, Within 2000 ft. of flammable or explosive material

Bldg. 6927

Ellsworth AFB

Meade SD 57706

Landholding Agency: Air Force

Property Number: 18200830011

Status: Unutilized

Reasons: Within 2000 ft. of flammable or explosive material, Secured Area

Tennessee

Bldg. 9418-1

Y-12 Plant

Oak Ridge Co: Anderson TN 37831

Landholding Agency: Energy

Property Number: 41199810026

Status: Unutilized

Reasons: Extensive deterioration, Secured Area

Bldg. 2010

Oak Ridge Natl Laboratory

Oak Ridge TN 37831

Landholding Agency: Energy

Property Number: 41200710009

Status: Excess

Reasons: Extensive deterioration, Secured Area

3 Bldgs.

Y-12 Natl Nuclear Security Complex

Oak Ridge TN 37831

Landholding Agency: Energy

Property Number: 41200720001

Status: Unutilized

Directions: 9104-01, 9104-02, 9104-03

Reasons: Secured Area

Bldgs. 1035, 1058, 1061

E. Tennessee Technology Park

Oak Ridge TN

Landholding Agency: Energy

Property Number: 41200730002

Status: Unutilized

Reasons: Contamination, Extensive deterioration, Secured Area

Bldgs. 1231, 1416

E. Tennessee Technology Park

Oak Ridge TN 37831

Landholding Agency: Energy

Property Number: 41200730003

Status: Unutilized

Reasons: Secured Area, Contamination, Extensive deterioration

Bldgs. 413, 1059

E. TN Tech Park

Oak Ridge TN 37831

Landholding Agency: Energy

Property Number: 41200730006

Status: Excess

Reasons: Secured Area, Contamination

Bldgs. 1000, 1008F, 1028

E. TN Technology Park

Oak Ridge TN 37831

Landholding Agency: Energy

Property Number: 41200810005

Status: Excess

Reasons: Secured Area

Bldgs. 1101, 1201, 1501

E. TN Technology Park

Oak Ridge TN 37831

Landholding Agency: Energy

Property Number: 41200810006

Status: Excess

Reasons: Secured Area, Within airport runway clear zone

4 Bldgs.

East TN Technology Park

Oak Ridge TN 37831

Landholding Agency: Energy

Property Number: 41200810007

Status: Excess

Directions: 1513, 1515, 1515E, 1515H

Reasons: Secured Area

3 Bldgs.

Y-12 National Security Complex

9706-01, 9706-01A, 9711-05

Oak Ridge TN 37831

Landholding Agency: Energy

Property Number: 41200810008

Status: Unutilized

Reasons: Secured Area

3 Bldgs.

Y-12 National Security Complex

9733-01, 9733-02, 9733-03

Oak Ridge TN 37831

Landholding Agency: Energy

Property Number: 41200810009

Status: Unutilized

Reasons: Secured Area

Bldgs. 9734, 9739

Y-12 National Security Complex

Oak Ridge TN 37831

Landholding Agency: Energy

Property Number: 41200810010

Status: Unutilized

Reasons: Secured Area

4 Bldgs.

Y-12 Natl Security Complex

Oak Ridge TN 37831

Landholding Agency: Energy

Property Number: 41200910001

Status: Unutilized

Directions: 9201-05, 9622, 9769, 9983-HP

Reasons: Secured Area

13 Bldgs.

Y-12 Natl Security Complex

Oak Ridge TN 37831

Landholding Agency: Energy

Property Number: 41200920003

Status: Unutilized

Directions: 9404-02, 9404-04, 9409-04, 9409-30, 9416-18, 9416-21, 9709, 9709-19, 9720-19A, 9720-19B, 9724-01, 9766, 9983-FE

Reasons: Secured Area

Bldgs. 2, 3, 5

Naval/Marine Corps Rsv Ctr

Knoxville Co: Knox TN 37920

Landholding Agency: Navy

Property Number: 77200530018

Status: Unutilized

Reasons: Extensive deterioration, Secured Area

Bldgs. 9720-03, 9720-06

Y-12 Natl Nuclear Security Complex

Oak Ridge TN 37831

Landholding Agency: Navy

Property Number: 77200720038

Status: Unutilized

Reasons: Secured Area

Texas

Bldg. 1001

FNXC, Dyess AFB

Tye Co: Taylor TX 79563

Landholding Agency: Air Force

Property Number: 18200810008

Status: Unutilized

Reasons: Extensive deterioration

5 Bldgs.

Dyess AFB

Abilene TX 79607

Landholding Agency: Air Force

Property Number: 18200840005

Status: Unutilized

Directions: B-4003, 4120, B-4124, 4127, 4130

Reasons: Secured Area

4 Bldgs.

Dyess AFB

Abilene TX 79607

Landholding Agency: Air Force

Property Number: 18200840006

Status: Unutilized

Directions: 7225, 7226, 7227, 7313

Reasons: Secured Area

4 Bldgs.

Dyess AFB

Abilene TX 79607

Landholding Agency: Air Force

Property Number: 18200840007

Status: Unutilized

Directions: 8050, 8054, 8129, 8133

Reasons: Secured Area

5 Bldgs.

Dyess AFB

Abilene TX 79607

Landholding Agency: Air Force

Property Number: 18200840008

Status: Unutilized

Directions: B-9032, 9107, 9114, B-9140, 11900

Reasons: Secured Area

Bldg. B-4228

FNWZ Dyess AFB

Taylor TX 79607

Landholding Agency: Air Force

Property Number: 18200920009

Status: Unutilized

Reasons: Secured Area

Bldgs. B-3701, B-3702

FNWZ Dyess AFB

Pecos TX 79772

Landholding Agency: Air Force

Property Number: 18200920010

Status: Unutilized

Reasons: Secured Area

Bldgs. 1, 2, 3, 4

Tethered Aerostat Radar Site

Matagorda TX 77457

Landholding Agency: Air Force

Property Number: 18200920023

Status: Excess

Reasons: Secured Area

Bldg. 154

Goodfellow AFB

Goodfellow TX 76908

Landholding Agency: Air Force

Property Number: 18200920024

Status: Unutilized

Reasons: Secured Area

Bldg. FNXH 2001

Dyess AFB

Dyess AFB TX 79607

Landholding Agency: Air Force

Property Number: 18200930011

Status: Unutilized

Reasons: Within 2000 ft. of flammable or explosive material, Secured Area

6 Bldgs.

Dyess AFB

Dyess AFB TX 79607

Landholding Agency: Air Force

Property Number: 18200930013

Status: Unutilized

Directions: FNWZ 7235, 7312, 7405, 8045, 8120, 9113

Reasons: Secured Area

Zone 12, Bldg. 12-20

Pantex Plant

Amarillo Co: Carson TX 79120

Landholding Agency: Energy

Property Number: 41200220053

Status: Unutilized

Reasons: Within 2000 ft. of flammable or explosive material, Secured Area

Bldgs. 12-017E, 12-019E

Pantex Plant

Amarillo Co: Carson TX 79120

Landholding Agency: Energy

Property Number: 41200320010

Status: Unutilized

Reasons: Secured Area, Within 2000 ft. of flammable or explosive material

4 Bldgs.

NNSA Pantex Plant

Amarillo Co: Carson TX 79120

Landholding Agency: Energy

Property Number: 41200540002

Status: Unutilized

Directions: 12-009, 12-009A, 12-R-009A, 12-R-009B

Reasons: Within 2000 ft. of flammable or explosive material, Secured Area

Bldg. 12-011A

NNSA Pantex Plant

Amarillo Co: Carson TX 79120

Landholding Agency: Energy

Property Number: 41200540003

Status: Unutilized

Reasons: Within 2000 ft. of flammable or explosive material, Secured Area

Bldg. 12-097

NNSA Pantex Plant

Amarillo Co: Carson TX 79120

Landholding Agency: Energy

Property Number: 41200540004

Status: Unutilized

Reasons: Secured Area, Within 2000 ft. of flammable or explosive material

Bldgs. 11-54, 11-54A

Zone 11

Plantex Plant

Amarillo Co: Carson TX 79120

Landholding Agency: Energy

Property Number: 41200630008

Status: Unutilized

Reasons: Secured Area, Within 2000 ft. of flammable or explosive material

Bldg. 12-002B

Zone 12

Pantex Plant

Amarillo Co: Carson TX 79120

Landholding Agency: Energy

Property Number: 41200630009

Status: Unutilized

Reasons: Within 2000 ft. of flammable or explosive material, Secured Area

4 Bldgs.

12-003, 12-R-003, 12-003L

Zone 12, Pantex Plant

Amarillo Co: Carson TX 79120

Landholding Agency: Energy

Property Number: 41200630010

Status: Unutilized

Reasons: Secured Area, Within 2000 ft. of flammable or explosive material

Bldg. 12-014

Zone 12

Pantex Plant

Amarillo Co: Carson TX 79120

Landholding Agency: Energy

Property Number: 41200630011

Status: Unutilized

Reasons: Secured Area, Within 2000 ft. of flammable or explosive material

Bldg. 12-24E

Zone 12

Pantex Plant

Amarillo Co: Carson TX 79120

Landholding Agency: Energy

Property Number: 41200630012

Status: Unutilized

Reasons: Within 2000 ft. of flammable or explosive material, Secured Area

Bldg. 11-029, Zone 11

Pantex Plant

Amarillo Co: Carson TX 79120

Landholding Agency: Energy

Property Number: 41200640007

Status: Unutilized

Reasons: Within 2000 ft. of flammable or explosive material, Secured Area

Bldgs. 11-010, T09-031

Pantex Plant

Amarillo TX 79120

Landholding Agency: Energy

Property Number: 41200810011

Status: Unutilized

Reasons: Within 2000 ft. of flammable or explosive material, Secured Area

Bldgs. 4-24, 4-27, 4-29

Pantex Plant

Amarillo TX 79120

Landholding Agency: Energy

Property Number: 41200830003

Status: Unutilized

Reasons: Within 2000 ft. of flammable or explosive material, Secured Area

Bldg. 11-027

Pantex Plant

Amarillo TX 79120

Landholding Agency: Energy

Property Number: 41200830004

Status: Unutilized

Reasons: Within 2000 ft. of flammable or explosive material, Secured Area

3 Bldgs.

Pantex Plant

12-0245, 12-041SS, 12-075A

Amarillo TX 79120

Landholding Agency: Energy

Property Number: 41200830005

Status: Unutilized

Reasons: Secured Area, Within 2000 ft. of flammable or explosive material

Bldgs. 04-024, 04-027, 04-029

Pantex Plant

Amarillo TX

Landholding Agency: Energy

Property Number: 41200840003

Status: Unutilized

Reasons: Secured Area, Within 2000 ft. of flammable or explosive material

Bldgs. 09-013, 09-125

Pantex Plant

Amarillo TX

Landholding Agency: Energy

Property Number: 41200840004

Status: Unutilized

Reasons: Secured Area, Within 2000 ft. of flammable or explosive material

5 Bldgs.

Pantex Plant

Amarillo TX

Landholding Agency: Energy

Property Number: 41200840005

Status: Unutilized

Directions: 09-095, 09-126, 09-132, 09-132A, 09-134

Reasons: Secured Area, Within 2000 ft. of flammable or explosive material

Bldg. 11-027

Pantex Plant

Amarillo TX

Landholding Agency: Energy

Property Number: 41200840006

Status: Unutilized

Reasons: Within 2000 ft. of flammable or explosive material, Secured Area

4 Bldgs.

Pantex Plant

Amarillo TX

Landholding Agency: Energy

Property Number: 41200840007

Status: Unutilized

Directions: 12-R-009B,12-0245, 12-041SS, 12-075A

Reasons: Within 2000 ft. of flammable or explosive material, Secured Area

6 Bldgs.

Pantex Plant

Amarillo TX 79121

Landholding Agency: Energy

Property Number: 41200920004

Status: Unutilized

Directions: 09-056, 11-R-016, 11-030, 12-023, 12-045, 12-047, 12-005G3

Reasons: Secured Area, Within 2000 ft. of flammable or explosive material

Bldg. 1732

Naval Air Station

Corpus Christi Co: Nueces TX

Landholding Agency: Navy

Property Number: 77200540007

Status: Excess

Reasons: Extensive deterioration, Secured Area

Bldg. 243

Naval Air Station Joint Reserve Base

Ft. Worth Co: Tarrant TX 76127

Landholding Agency: Navy

Property Number: 77200640035

Status: Unutilized

Reasons: Secured Area, Extensive deterioration

Bldg. 1430

Naval Air Station Joint Reserve Base

Ft. Worth Co: Tarrant TX 76127

Landholding Agency: Navy

Property Number: 77200640036

Status: Unutilized

Reasons: Extensive deterioration, Secured Area

Bldg. 1500

Naval Air Station Joint Reserve Base

Ft. Worth Co: Tarrant TX 76127

Landholding Agency: Navy

Property Number: 77200640037

Status: Unutilized

Reasons: Extensive deterioration, Secured Area

Bldg. 4151

Naval Air Station Joint Reserve Base

Ft. Worth Co: Tarrant TX 76127

Landholding Agency: Navy

Property Number: 77200640038

Status: Unutilized

Reasons: Extensive deterioration, Secured Area

Bldgs. 3379, 3380

Naval Air Station

Ft. Worth Co: Tarrant TX 76127

Landholding Agency: Navy

Property Number: 77200810023

Status: Unutilized

Reasons: Secured Area, Extensive deterioration

Bldgs. 1414, 3190

Naval Air Station

Joint Reserve Base

Ft. Worth TX 76127

Landholding Agency: Navy

Property Number: 77200830031

Status: Unutilized

Reasons: Secured Area

Utah

5 Bldgs.

Naval Industrial Ordinance Plant

Magna UT 84044

Landholding Agency: Navy

Property Number: 77200720033

Status: Unutilized

Directions: 4D, 6A, 6C, 8C, 10B

Reasons: Secured Area, Within 2000 ft. of flammable or explosive material

4 Bldgs.

Naval Industrial Ordinance Plant

Magna UT 84044

Landholding Agency: Navy

Property Number: 77200720034

Status: Unutilized

Directions: 11, 15, 16, 19

Reasons: Secured Area, Within 2000 ft. of flammable or explosive material

Bldgs. 22A, 22B, 22C

Naval Industrial Ordinance Plant

Magna UT 84044

Landholding Agency: Navy

Property Number: 77200720035

Status: Unutilized

Reasons: Secured Area, Within 2000 ft. of flammable or explosive material

Bldgs. 23A, 23B, 23C

Naval Industrial Ordinance Plant

Magna UT 84044

Landholding Agency: Navy

Property Number: 77200720036

Status: Unutilized

Reasons: Secured Area, Within 2000 ft. of flammable or explosive material

4 Bldgs.

Naval Industrial Ordinance Plant

Magna UT 84044

Landholding Agency: Navy

Property Number: 77200720037

Status: Unutilized

Directions: 33, 45B, 45C, 46D

Reasons: Secured Area, Within 2000 ft. of flammable or explosive material

Virginia

12 Bldgs

Langley AFB

Langley VA 23665

Landholding Agency: Air Force

Property Number: 18200920012

Status: Unutilized

Directions: 35, 36, 903, 905, 1013, 1020, 1033, 1050, 1066, 1067, 1069, 1075

Reasons: Floodway, Secured Area

5 Bldgs.

John H. Kerr Lake & Dam

Mecklenburg VA 23917

Landholding Agency: COE

Property Number: 31200930014

Status: Unutilized

Directions: JHK-15782, 17134, 17453, 17456, 18017

Reasons: Extensive deterioration

Bldgs. 500, 501

Naval Weapon Station

Yorktown VA 23691

Landholding Agency: Navy

Property Number: 77200640012

Status: Excess

Reasons: Extensive deterioration

Bldg. 628

Naval Weapon Station

Yorktown VA 23691

Landholding Agency: Navy

Property Number: 77200640013

Status: Excess

Reasons: Extensive deterioration

Bldg. 2398

Naval Station

Norfolk VA

Landholding Agency: Navy

Property Number: 77200730021

Status: Excess

Reasons: Secured Area

Bldgs. 375, 502, 502A

Naval Weapons Station

Yorktown VA 23691

Landholding Agency: Navy

Property Number: 77200810002

Status: Excess

Reasons: Extensive deterioration, Secured Area

Bldgs. 503, 503A, 504

Naval Weapons Station

Yorktown VA 23691

Landholding Agency: Navy

Property Number: 77200810003

Status: Excess

Reasons: Extensive deterioration, Secured Area

Bldgs. 505, 505A

Naval Weapons Station

Yorktown VA 23691

Landholding Agency: Navy

Property Number: 77200810004

Status: Excess

Reasons: Extensive deterioration, Secured Area

Bldgs. 1213, 1979

Naval Weapons Station

Yorktown VA 23691

Landholding Agency: Navy

Property Number: 77200810005

Status: Excess

Reasons: Secured Area, Extensive deterioration

Bldgs. 2007, 2008

Naval Weapons Station

Yorktown VA 23691

Landholding Agency: Navy

Property Number: 77200810006

Status: Excess

Reasons: Extensive deterioration, Secured Area

Bldgs. 439, 466

Naval Weapon Station

Yorktown VA 23691

Landholding Agency: Navy

Property Number: 77200820016

Status: Excess

Reasons: Secured Area

Bldgs. 760, 761

Naval Weapon Station

Yorktown VA 23691

Landholding Agency: Navy

Property Number: 77200820017

Status: Excess

Reasons: Secured Area

Bldgs. 1820, 1895

Naval Weapon Station

Yorktown VA 23691

Landholding Agency: Navy

Property Number: 77200820018

Status: Excess

Reasons: Secured Area

Bldgs. 1977, 1978, 1983

Naval Weapon Station

Yorktown VA 23691

Landholding Agency: Navy

Property Number: 77200820019

Status: Excess

Reasons: Secured Area

Bldg. CAD-RR

Naval Weapon Station

Yorktown VA 23691

Landholding Agency: Navy

Property Number: 77200820020

Status: Excess

Reasons: Secured Area

Bldg. 3186

Naval Amphibious Base

Little Creek Co: Norfolk VA

Landholding Agency: Navy

Property Number: 77200840006

Status: Unutilized

Reasons: Secured Area

Bldg. NAB757

Naval Amphibious Little Creek

Norfolk VA

Landholding Agency: Navy

Property Number: 77200840008

Status: Unutilized

Reasons: Secured Area

19 Ammunition Bunkers

Naval Weapon Station

Ammo Plant 1 & 2

Yorktown VA 23691

Landholding Agency: Navy

Property Number: 77200840009

Status: Excess

Reasons: Extensive deterioration, Secured Area

11 Bldgs.

Naval Weapon Station

Yorktown VA 23691

Landholding Agency: Navy

Property Number: 77200840019

Status: Excess

Directions: 10, 11, 97, 97A, 98, 472, 526, 527, 528, 528A, 1592

Reasons: Secured Area, Extensive deterioration

8 Bldgs.

Naval Weapon Station

Yorktown VA 23691

Landholding Agency: Navy

Property Number: 77200840020

Status: Excess

Directions: 109, 110, 500A, 501A, 627, 629, 1249, 1462

Reasons: Secured Area, Extensive deterioration

5 Bldgs.

Naval Amphibious Base

Norfolk VA

Landholding Agency: Navy

Property Number: 77200840021

Status: Unutilized

Directions: 3375, 3420, 3550, 3695, 3891

Reasons: Extensive deterioration, Secured Area

Bldg. 3605

Naval Amphibious

Little Creek

Norfolk VA

Landholding Agency: Navy

Property Number: 77200910020

Status: Unutilized

Reasons: Secured Area

4 Bldgs./Land

Naval Station

Norfolk VA 23511

Landholding Agency: Navy

Property Number: 77200920045

Status: Underutilized

Directions: SDA-204, SDA-205, SDA-210, SDA-311 & 36.6 acres

Reasons: Secured Area

7 Bldgs.

Naval Station

Norfolk VA 23511

Landholding Agency: Navy

Property Number: 77200930007

Status: Excess

Directions: Q57, Q99, Q99A, SP83, SP85, SP85A, SP125

Reasons: Secured Area, Extensive deterioration

Training Bldg.

USCG Integrated Support Ctr

Portsmouth Co: Norfolk VA 43703

Landholding Agency: Coast Guard

Property Number: 88200530001

Status: Excess

Reasons: Secured Area

Bldg. 011

Integrated Support Center

Portsmouth Co: Norfolk VA 43703

Landholding Agency: Coast Guard

Property Number: 88200620002

Status: Excess

Reasons: Secured Area

9 Bldgs.

USCG Cape Charles Station

Winters Quarters

Northampton VA 23310

Landholding Agency: Coast Guard

Property Number: 88200740001

Status: Unutilized

Reasons: Extensive deterioration

Navigation Center Trailer

USCG TISCOM

Alexandria VA 22315

Landholding Agency: Coast Guard

Property Number: 88200820003

Status: Excess

Reasons: Secured Area

Washington

Defense Fuel Supply Point

18 structures/21 acres

Mukilteo WA

Landholding Agency: Air Force

Property Number: 18200910001

Status: Unutilized

Reasons: Extensive deterioration

79 Structures

Hanford Site 100, 300, 400

Richland Co: Benton WA 99352

Landholding Agency: Energy

Property Number: 41200620010

Status: Excess

Directions: Infrastructure Facilities

Reasons: Secured Area

87 Structures

Hanford Site 100, 300, 400

Richland Co: Benton WA 99351

Landholding Agency: Energy

Property Number: 41200620011

Status: Excess

Directions: Mobile Offices

Reasons: Secured Area

139 Structures

Hanford Site 100, 300, 400

Richland Co: Benton WA 99352

Landholding Agency: Energy

Property Number: 41200620012

Status: Excess

Directions: Offices Facilities

Reasons: Secured Area

122 Structures

Hanford Site 100, 300, 400

Richland Co: Benton WA 99352

Landholding Agency: Energy

Property Number: 41200620013

Status: Excess

Directions: Process Facilities

Reasons: Secured Area

Bldg. 529

Puget Sound Naval Shipyard

Bremerton WA 98314-5000

Landholding Agency: Navy

Property Number: 77200040020

Status: Excess

Reasons: Secured Area

Bldg. 8

Naval Reserve Center

Spokane WA 99205

Landholding Agency: Navy

Property Number: 77200430025

Status: Excess

Reasons: Extensive deterioration, Secured Area

Bldgs. 10, 11

Naval Reserve Center

Spokane WA 99205

Landholding Agency: Navy

Property Number: 77200430026

Status: Excess

Reasons: Secured Area, Extensive deterioration

Bldgs. 2656-2658

Naval Air Station

Lake Hancock

Coupeville Co: Island WA 98239

Landholding Agency: Navy

Property Number: 77200430027

Status: Unutilized

Reasons: Secured Area

Bldgs. 2652, 2705

Naval Air Station

Whidbey

Oak Harbor WA 98277

Landholding Agency: Navy

Property Number: 77200440010

Status: Unutilized

Reasons: Secured Area

Bldgs. 79, 884

NAS Whidbey Island

Seaplane Base

Oak Harbor WA 98277

Landholding Agency: Navy

Property Number: 77200440011

Status: Unutilized

Reasons: Secured Area

Bldg. 121

NAS Whidbey Island

Ault Field

Oak Harbor WA 98277

Landholding Agency: Navy

Property Number: 77200440012

Status: Unutilized

Reasons: Secured Area

Bldg. 419

NAS Whidbey Island

Ault Field

Oak Harbor WA 98277

Landholding Agency: Navy

Property Number: 77200440013

Status: Unutilized

Reasons: Secured Area

Bldgs. 2609, 2610

NAS Whidbey Island

Ault Field

Oak Harbor WA 98277

Landholding Agency: Navy

Property Number: 77200440014

Status: Unutilized

Reasons: Secured Area

Bldg. 2753

NAS Whidbey Island

Ault Field

Oak Harbor WA 98277

Landholding Agency: Navy

Property Number: 77200440015

Status: Unutilized

Reasons: Secured Area

Bldg. 108

Naval Magazine

Port Hadlock Co: Jefferson WA 98339-9723

Landholding Agency: Navy

Property Number: 77200510015

Status: Unutilized

Reasons: Extensive deterioration, Secured Area

Bldg. 351

Puget Sound Naval Shipyard

Bremerton WA 98314

Landholding Agency: Navy

Property Number: 77200530026

Status: Unutilized

Reasons: Secured Area, Within 2000 ft. of flammable or explosive material

Bldg. 1032

Naval Base

Bangor Tower Site

Silverdale WA 98315

Landholding Agency: Navy

Property Number: 77200630045

Status: Unutilized

Reasons: Within 2000 ft. of flammable or explosive material, Secured Area

Bldg. 71

Naval Magazine

Port Hadlock Co: Jefferson WA 98339-9723

Landholding Agency: Navy

Property Number: 77200640007

Status: Unutilized

Reasons: Secured Area, Extensive deterioration

Bldgs. 82, 83

Naval Magazine

Port Hadlock Co: Jefferson WA 98339-9723

Landholding Agency: Navy

Property Number: 77200640008

Status: Unutilized

Reasons: Extensive deterioration, Secured Area

Bldgs. 168, 188 Naval Magazine

Port Hadlock Co: Jefferson WA 98339-9723

Landholding Agency: Navy

Property Number: 77200640009

Status: Unutilized

Reasons: Extensive deterioration, Secured Area

Bldg. 729

Naval Magazine

Port Hadlock Co: Jefferson WA 98339-9723

Landholding Agency: Navy

Property Number: 77200640010

Status: Unutilized

Reasons: Secured Area, Extensive deterioration

Bldgs. 910, 921

Naval Magazine

Port Hadlock Co: Jefferson WA 98339-9723

Landholding Agency: Navy

Property Number: 77200640011

Status: Unutilized

Reasons: Secured Area, Extensive deterioration

Bldgs. 407, 447

Naval Base

Bremerton Co: Kitsap WA 98310

Landholding Agency: Navy

Property Number: 77200640014

Status: Excess

Reasons: Secured Area

Bldg. 867

Naval Base

Bremerton Co: Kitsap WA 98310

Landholding Agency: Navy

Property Number: 77200640015

Status: Excess

Reasons: Secured Area

Bldgs. 937, 975

Naval Base

Bremerton Co: Kitsap WA 98310

Landholding Agency: Navy

Property Number: 77200640016

Status: Excess

Reasons: Secured Area

Bldg. 1449

Naval Base

Silverdale Co: Kitsap WA 98315

Landholding Agency: Navy

Property Number: 77200640017

Status: Unutilized

Reasons: Secured Area

Bldg. 1670

Naval Base

Silverdale Co: Kitsap WA 98315

Landholding Agency: Navy

Property Number: 77200640018

Status: Unutilized

Reasons: Secured Area

Bldgs. 2007, 2801

Naval Base

Silverdale Co: Kitsap WA 98315

Landholding Agency: Navy

Property Number: 77200640019

Status: Unutilized

Reasons: Secured Area

Bldgs. 6021, 6095

Naval Base

Silverdale Co: Kitsap WA 98315

Landholding Agency: Navy

Property Number: 77200640020

Status: Unutilized

Reasons: Secured Area

Bldgs. 6606, 6661

Naval Base

Silverdale Co: Kitsap WA 98315

Landholding Agency: Navy

Property Number: 77200640021

Status: Unutilized

Reasons: Secured Area

Bldgs. 726, 727, 734

Naval Undersea Warfare

Keyport Co: Kitsap WA 98345

Landholding Agency: Navy

Property Number: 77200640022

Status: Unutilized

Reasons: Secured Area, Within 2000 ft. of flammable or explosive material

Bldgs. 901, 911

Naval Undersea Warfare

Keyport Co: Kitsap WA 98345

Landholding Agency: Navy

Property Number: 77200640023

Status: Unutilized

Reasons: Secured Area, Within 2000 ft. of flammable or explosive material

Bldgs. 925, 938

Naval Undersea Warfare

Keyport Co: Kitsap WA 98345

Landholding Agency: Navy

Property Number: 77200640024

Status: Unutilized

Reasons: Secured Area, Within 2000 ft. of flammable or explosive material

Bldg. 1020

Naval Undersea Warfare

Keyport Co: Kitsap WA 98345

Landholding Agency: Navy

Property Number: 77200640025

Status: Unutilized

Reasons: Within 2000 ft. of flammable or explosive material, Secured Area

Fisher Transit Site

Easement

Jefferson WA

Landholding Agency: Navy

Property Number: 77200710015

Status: Excess

Reasons: Other—Remote Location

Bldgs. 437, 853

Naval Base

Bremerton Co: Kitsap WA 98310

Landholding Agency: Navy

Property Number: 77200710018

Status: Unutilized

Reasons: Secured Area

Bldg. 1039

Naval Base

Bremerton Co: Kitsap WA 98310

Landholding Agency: Navy

Property Number: 77200710019

Status: Unutilized

Reasons: Secured Area, Within 2000 ft. of flammable or explosive material

Bldgs. 1400, 1461

Naval Base

Bremerton Co: Kitsap WA 98310

Landholding Agency: Navy

Property Number: 77200710020

Status: Unutilized

Reasons: Secured Area, Within 2000 ft. of flammable or explosive material

Bldg. 6026

Naval Base

Bremerton Co: Kitsap WA 98310

Landholding Agency: Navy

Property Number: 77200710021

Status: Unutilized

Reasons: Within 2000 ft. of flammable or explosive material, Secured Area

Bldgs. 6608, 6609, 6904

Naval Base

Bremerton Co: Kitsap WA 98310

Landholding Agency: Navy

Property Number: 77200710022

Status: Unutilized

Reasons: Within 2000 ft. of flammable or explosive material, Secured Area

Bldgs. 110, 116

Naval Air Station

Oak Harbor WA 98278

Landholding Agency: Navy

Property Number: 77200740013

Status: Excess

Reasons: Secured Area

Bldg. 839

Puget Sound Naval Shipyard

Bremerton WA 98314

Landholding Agency: Navy

Property Number: 77200740014

Status: Excess

Reasons: Secured Area, Within 2000 ft. of flammable or explosive material

Bldgs. 402, 403, 2634

Naval Air Station

Oak Harbor Co: Whidbey Island WA 96278

Landholding Agency: Navy

Property Number: 77200810020

Status: Excess

Reasons: Extensive deterioration

Bldg. 7658

Naval Base

Bangor WA

Landholding Agency: Navy

Property Number: 77200830017

Status: Excess

Reasons: Extensive deterioration, Secured Area

Bldgs. 986, 987

Naval Air Station

Whidbey Island

Oak Harbor WA 98278

Landholding Agency: Navy

Property Number: 77200840001

Status: Unutilized

Reasons: Secured Area

Bldg. 94

Naval Air Station

Whidbey Island

Oak Harbor WA 98278

Landholding Agency: Navy

Property Number: 77200840002

Status: Excess

Reasons: Secured Area

Bldgs. 20, 62, 2616, 2663

Naval Air Station

Whidbey Island WA

Landholding Agency: Navy

Property Number: 77200840017

Status: Excess

Reasons: Secured Area

Bldg. 113

Naval Air Station

Whidbey Island WA 98278

Landholding Agency: Navy

Property Number: 77200920017

Status: Excess

Reasons: Secured Area

6 Bldgs.

Naval Air Station

Whidbey Island WA 98278

Landholding Agency: Navy

Property Number: 77200920018

Status: Unutilized

Directions: 175, 855, 2601, 2602, 2603, 2604

Reasons: Secured Area, Extensive deterioration

Bldg. 1013

Naval Base Kitsap

Bangor WA

Landholding Agency: Navy

Property Number: 77200920019

Status: Unutilized

Reasons: Extensive deterioration, Secured Area

Bldgs. 2660, 2661, 2662

Naval Air Station

Whidbey Island WA 98278

Landholding Agency: Navy

Property Number: 77200920047

Status: Unutilized

Reasons: Extensive deterioration

Bldg. 130

Naval Station

Pacific Beach WA 98571

Landholding Agency: Navy

Property Number: 77200930011

Status: Excess

Reasons: Extensive deterioration

West Virginia

Bldgs. 102, 106, 111

Air National Guard

Martinsburg WV 25405

Landholding Agency: Air Force

Property Number: 18200920013

Status: Unutilized

Reasons: Within 2000 ft. of flammable or explosive material, Secured Area

Wisconsin

Bldg. OV1

USCG Station

Bayfield WI 54814

Landholding Agency: Coast Guard

Property Number: 88200620001

Status: Excess

Reasons: Secured Area

Wyoming

Bldg. 00012

Cheyenne RAP

Laramie WY 82009

Landholding Agency: Air Force

Property Number: 18200730013

Status: Unutilized

Reasons: Extensive deterioration, Within 2000 ft. of flammable or explosive material, Secured Area

Unsuitable properties

Land

California

Facilities 99001 thru 99006

Pt Arena AF Station

Mendocino CA 95468

Landholding Agency: Air Force

Property Number: 18200820028

Status: Excess

Reasons: Secured Area

7 Facilities

Pt. Arena Comm Annex

Mendocino CA 95468

Landholding Agency: Air Force

Property Number: 18200820031

Status: Excess

Directions: 99001, 99003, 99004, 99005, 99006, 99007, 99008

Reasons: Secured Area

Facilities 99002 thru 99014

Pt. Arena Water Sys Annex

Mendocino CA 95468

Landholding Agency: Air Force

Property Number: 18200820032

Status: Excess

Reasons: Secured Area

Trailer Space

Naval Base

San Diego CA

Landholding Agency: Navy

Property Number: 77200520013

Status: Unutilized

Reasons: Secured Area

Parcels 1, 2, 3, 4

Naval Base

Port Hueneme Co: Ventura CA 93043

Landholding Agency: Navy

Property Number: 77200630003

Status: Underutilized

Reasons: Secured Area

Parcels 11, 12, 13, 14, 15

Naval Base

Port Hueneme Co: Ventura CA 93043

Landholding Agency: Navy

Property Number: 77200630004

Status: Underutilized

Reasons: Secured Area

Sand Spit

Naval Base

Port Hueneme Co: Ventura CA 93043

Landholding Agency: Navy

Property Number: 77200720008

Status: Underutilized

Reasons: Floodway

Florida

Defense Fuel Supply Point

Lynn Haven FL 32444

Landholding Agency: Air Force

Property Number: 18200740009

Status: Excess

Reasons: Floodway

Hawaii

14.235 parcel

Marine Corps Base

Kaneohe HI 96863

Landholding Agency: Navy

Property Number: 77200830020

Status: Unutilized

Reasons: Secured Area

Indiana

approx. 0.2 acre

Naval Support Activity

Crane IN 47522

Landholding Agency: Navy

Property Number: 77200910006

Status: Underutilized

Reasons: Within 2000 ft. of flammable or explosive material Secured Area

South Carolina

Laurel Bay Tract

Marine Corps Air Station

Beaufort SC

Landholding Agency: Navy

Property Number: 77200830010

Status: Excess

Reasons: Secured Area

Texas

Rattlesnake ESS

FNWZ, Dyess AFB

Pecos TX 79772

Landholding Agency: Air Force

Property Number: 18200920011

Status: Unutilized

Reasons: Secured Area

24 acres

Tethered Aerostate Radar Site

Matagorda TX 77457

Landholding Agency: Air Force

Property Number: 18200920022

Status: Excess

Reasons: Secured Area

FNXH 99100

Dyess AFB

Dyess AFB TX 79607

Landholding Agency: Air Force

Property Number: 18200930012

Status: Unutilized

Reasons: Within 2000 ft. of flammable or explosive material

2.43 acre/0.36 acre

Dyess AFB

Dyess AFB TX 79563

Landholding Agency: Air Force

Property Number: 18200930014

Status: Unutilized

Directions: FNXL 99104, 99108, 99110, 99112 FNXM 99102, 99103, 99108

Reasons: Within airport runway clear zone

Utah

0.47 acre

Hyrum Feeder Canal

Hyrum UT 84319

Landholding Agency: Interior

Property Number: 61200820004

Status: Excess

Reasons: Other—landlocked

Washington

405 sq. ft./Land

Naval Base Kitsap

Bangor WA

Landholding Agency: Navy

Property Number: 77200520060

Status: Unutilized

Reasons: Secured Area

230 sq. ft. land

Naval Magazine

Indian Island WA

Landholding Agency: Navy

Property Number: 77200620037

Status: Underutilized

Reasons: Within 2000 ft. of flammable or explosive material Secured Area

Tabook Transit Site

Easement

Jefferson WA

Landholding Agency: Navy

Property Number: 77200710016

Status: Excess

Reasons: Other—Remote Location

[FR Doc. E9-20421 Filed 8-27-09; 8:45 am]

BILLING CODE 4210-67-P